DEPARTMENT OF AGRICULTURE

Agricultural Marketing Service

7 CFR Part 1205

[Doc. No. AMS-CN-24-0008]

Cotton Board Rules and Regulations: Adjusting Supplemental Assessment on Imports (2024 Amendments)

AGENCY: Agricultural Marketing Service, Department of Agriculture (USDA).

ACTION: Direct final rule.

SUMMARY: The Agricultural Marketing Service (AMS) is amending the Cotton Board Rules and Regulations, decreasing the value assigned to imported cotton for the purposes of calculating supplemental assessments collected for use by the Cotton Research and Promotion Program. This amendment is required each year to ensure that assessments collected on imported cotton and the cotton content of imported products will be the same as those paid on domestically produced cotton. In addition, AMS is updating the Import Assessment Table to account for changes since the last assessment adjustment in 2023.

DATES: This direct final rule is effective November 15, 2024, without further action or notice, unless significant adverse comment is received by October 16, 2024. If significant adverse comment is received, AMS will publish a timely withdrawal of the amendment in the Federal Register.

ADDRESSES: Interested persons are invited to submit written comments concerning this direct final rule. Comments may be submitted by mail or hand delivery to Cotton Research and Promotion, Cotton and Tobacco Program, AMS, USDA, 100 Riverside Parkway, Suite 101, Fredericksburg, Virginia 22406 or via the internet at: https://www.regulations.gov. All comments should reference the document number and the date and page number of this issue of the Federal Register. All comments submitted in response to this direct final rule will be included in the record and will be made available to the public and can be viewed at: https://www.regulations.gov. Please be advised that the identity of the individuals or entities submitting the comments will be made public on the internet at the address provided above.

FOR FURTHER INFORMATION CONTACT: Shethir M. Riva, Director, Research and Promotion, Cotton and Tobacco Program, AMS, USDA, 100 Riverside Parkway, Suite 101, Fredericksburg, Virginia 22406, telephone (540) 361-2726, facsimile (540) 361-1199, or email at CottonRP@usda.gov.

SUPPLEMENTARY INFORMATION:

A. Background

Amendments to the Cotton Research and Promotion Act (7 U.S.C. 2101-2118) (Act) were enacted by Congress under Subtitle G of Title XIX of the Food, Agriculture, Conservation, and Trade Act of 1990 (Pub. L. 101-624, 104 Stat. 3909, November 28, 1990). These amendments contained two provisions that authorized changes in the funding procedures for the Cotton Research and Promotion Program. These provisions provided for: (1) the assessment of imported cotton and cotton products; and (2) termination of refunds to cotton producers. (Prior to the 1990 amendments to the Act, producers could request assessment refunds.)

As amended, the Cotton Research and Promotion Order (7 CFR part 1205) (Order) was approved by producers and importers voting in a referendum held July 17-26, 1991, and the amended Order was published in the Federal Register on December 10, 1991 (56 FR 64470). A proposed rule implementing the amended Order was published in the Federal Register on December 17, 1991 (56 FR 65450). Implementing rules were published on July 1 and 2, 1992 (57 FR 29181) and (57 FR 29431), respectively.

This direct final rule amends the value assigned to imported cotton in the Cotton Board Rules and Regulations (7 CFR 1205.510(b)(2)) that is used to determine the Cotton Research and Promotion assessment on imported cotton and cotton products. The total value of assessment levied on cotton imports is the sum of two parts. The first part of the assessment is based on the weight of cotton imported—levied at a rate of $1 per bale of cotton, which is equivalent to 500 pounds, or $1 per 226.8 kilograms of cotton. The second part of the import assessment (referred to as the supplemental assessment) is based on the value of imported cotton lint or the cotton contained in imported cotton products—levied at a rate of five-tenths of one percent of the value of domestically produced cotton.

Section 1205.510(b)(2) of the Cotton Board Rules and Regulations provides for assigning the calendar year weighted average price received by U.S. farmers for Upland cotton to represent the value of imported cotton. This is so that the assessment on domestically produced cotton and the assessment on imported cotton and the cotton content of imported products is the same. The source for the average price statistic is Agricultural Prices, a publication of the National Agricultural Statistics Service (NASS) of the Department of Agriculture. Use of the weighted average price figure in the calculation of supplemental assessments on imported cotton and the cotton content of imported products will yield an assessment that is the same as assessments paid on domestically produced cotton.

The current value of imported cotton as published in 2023 in the Federal Register (88 FR 55345) for the purpose of calculating assessments on imported cotton is $0.014691 per kilogram. Using the average weighted price received by U.S. farmers for Upland cotton for the calendar year 2023, this direct final rule amends the new value of imported cotton to $0.013247 per kilogram to reflect the price received by U.S. farmers for Upland cotton during 2023.

An example of the complete assessment formula and how the figures are obtained is as follows: ¹

¹ Results are rounded for ease of presentation. Totals may not sum due to rounding.

One bale is equal to 500 pounds.

One kilogram (kg) equals 2.2046 pounds.

One pound equals 0.453597 kilograms.

One Dollar per Bale Assessment Converted to Kilograms

A 500-pound bale equals 226.8 kg. (500 × 0.453597).

$1 per bale assessment equals $0.002000 per pound or 0.2000 cents per pound (1/500) or $0.004409 per kg or 0.4409 cents per kg. (1/226.8).

Supplemental Assessment of 5/10 of One Percent of the Value of the Cotton Converted to Kilograms

The 2023 calendar year weighted average price received by producers for Upland cotton is $0.802 per pound or $1.768 per kg. (0.802 × 2.2046).

Five tenths of one percent of the average price equals $0.008838 per kg. (1.768 × 0.005).

Total Assessment

The total assessment per kilogram of raw cotton is obtained by adding the $1 per bale equivalent assessment of $0.004409 per kg and the supplemental assessment $0.008838 per kg, which equals $0.013247 per kg.

The current assessment on imported cotton is $0.014691 per kilogram of imported cotton. The revised assessment in this direct final rule is $0.013247, a decrease of $0.001444 per kilogram. This reflects the decrease in the average weighted price of Upland cotton received by U.S. farmers during the period January through December 2023.

The Import Assessment Table in § 1205.510(b)(3) of the Order indicates the total assessment rate ($ per kilogram) due for each Harmonized Tariff Schedule (HTS) number that is subject to assessment. In this direct final rule, AMS is amending the Import Assessment Table to revise the total assessment rates in light of the change to the supplemental assessment rate. This table must be revised each year to reflect the change to the supplemental assessment rate, and any changes to the HTS numbers and respective conversion factors.

AMS believes that these amendments are necessary to ensure that assessments collected on imported cotton and the cotton content of imported products are the same as those paid on domestically produced cotton. Accordingly, changes reflected in this rule should be adopted and implemented as soon as possible since it is required by regulation.

As described in this Federal Register document, the amendment to the value used to determine the Cotton Research and Promotion Program importer assessment will be updated to reflect the assessment already paid by U.S. farmers. For the reasons mentioned above, AMS finds that publishing a proposed rule and seeking public comment is unnecessary because the change is required annually by regulation in 7 CFR 1205.510.

Also, this direct-final rulemaking furthers the objectives of Executive Order 13563, which requires that the regulatory process “promote predictability and reduce uncertainty” and “identify and use the best, most innovative, and least burdensome tools for achieving regulatory ends.”

AMS has used the direct rule rulemaking process since 2013 and has not received any adverse comments; however, if AMS receives significant adverse comments during the comment period, it will publish, in a timely manner, a document in the Federal Register withdrawing this direct final rule. AMS will then address public comments in a subsequent proposed rule and final rule based on the proposed rule.

B. Rulemaking Analyses

Executive Order 13175

This action has been reviewed in accordance with the requirements of Executive Order 13175, Consultation and Coordination with Indian Tribal Governments. The review reveals that this regulation would not have substantial and direct effects on Tribal governments and would not have significant Tribal implications.

Executive Orders 12866, 13563, and 14094

Executive Orders 12866 and 13563 direct agencies to assess all costs and benefits of available regulatory alternatives and, if regulation is necessary, to select regulatory approaches that maximize net benefits (including potential economic, environmental, public health, and safety effects; distributive impacts; and equity). Executive Order 13563 emphasizes the importance of quantifying both costs and benefits, reducing costs, harmonizing rules, and promoting flexibility. Executive Order 14094 reaffirms, supplements, and updates Executive Order 12866 and further directs agencies to solicit and consider input from a wide range of affected and interested parties through a variety of means. This action falls within a category of regulatory actions that the Office of Management and Budget (OMB) exempted from Executive Order 12866 review.

Executive Order 12988

This rule has been reviewed under Executive Order 12988, Civil Justice Reform. It is not intended to have retroactive effect.

The Act provides that administrative proceedings must be exhausted before parties may file suit in court. Under section 12 of the Act, any person subject to an order may file with the Secretary of Agriculture (Secretary) a petition stating that the order, any provision of the plan, or any obligation imposed in connection with the order is not in accordance with law and requesting a modification of the order or to be exempted therefrom. Such person is afforded the opportunity for a hearing on the petition. After the hearing, the Secretary would rule on the petition. The Act provides that the District Court of the United States in any district in which the person is an inhabitant, or has his principal place of business, has jurisdiction to review the Secretary's ruling, provided a complaint is filed within 20 days from the date of the entry of the Secretary's ruling.

Regulatory Flexibility Act and Paperwork Reduction Act

In accordance with the Regulatory Flexibility Act (RFA) (5 U.S.C. 601-612), AMS has examined the economic impact of this rule on small entities. The purpose of the RFA is to fit regulatory actions to the scale of businesses subject to such action so that small businesses will not be unduly or disproportionately burdened. The Small Business Administration (SBA) defines, in 13 CFR 121.201, a small cotton farming business as those having annual receipts of no more than $3.25 million (North American Industry Classification System (NAICS) Code 111920) and small “Other Farm Product Raw Material Merchant Wholesalers” (cotton merchants/importers) (NAICS Code 424590) as having no more than 175 employees.

According to the NASS 2022 Agriculture Census, the number of cotton farms is 14,283. NASS also reports that the total U.S. production value for Upland production averages $6,261,378,333 for 2021-2023. Dividing the crop value by the number of cotton farms, the average crop value is approximately $438,380. Since $438,380 is well below $3.25 million and assuming a normal distribution, the majority of cotton farmers are small according to the SBA standards.

The Cotton Board estimates approximately 37,000 importers are subject to the Cotton Research and Promotion Order. According to the United States Census Bureau's “2021 Survey of SUSB Annual Data Tables by Establishment Industry,” most importers are considered small entities as defined by the SBA (13 CFR 121.201). This rule would only affect importers of cotton and cotton-containing products and would decrease the assessments paid by the importers under the Cotton Research and Promotion Order. The current assessment on imported cotton is $0.014691 per kilogram of imported cotton. The amended assessment is $0.013247, which was calculated based on the 12-month weighted average of price received by U.S. cotton farmers in 2023. Section 1205.510 of the Order, “Levy of assessments”, provides “The rate of the supplemental assessment on imported cotton will be the same as that levied on cotton produced within the United States.” In addition, § 1205.510 provides that the 12-month weighted average of prices received by U.S. farmers will be used as the value of imported cotton for the purpose of levying the supplemental assessment on imported cotton. Under the Cotton Research and Promotion Program, assessments are used by the Cotton Board to finance research and promotion programs designed to increase consumer demand for Upland cotton in the United States and international markets. In 2023, producer assessments totaled $41.1 million and importer assessments totaled $40.7 million. According to the Cotton Board, should the volume of cotton products imported into the U.S. remain at the same level in 2024, one could expect a decrease of assessments by approximately $4,000,800.

Imported organic cotton and products may be exempt from assessment if eligible under § 1205.519 of the Order.

There are no Federal rules that duplicate, overlap, or conflict with this rule. In compliance with Office of Management and Budget (OMB) regulations (5 CFR part 1320) which implement the Paperwork Reduction Act (PRA) (44 U.S.C. Chapter 35) the information collection requirements contained in the regulation to be amended have been previously approved by OMB and were assigned control number 0581-0093, National Research, Promotion, and Consumer Information Programs. This rule does not result in a change to the information collection and recordkeeping requirements previously approved.

A 30-day comment period is provided to comment on the changes to the Cotton Board Rules and Regulations herein. This period is deemed appropriate because an amendment is required to adjust the assessments collected on imported cotton and the cotton content of imported products to be the same as those paid on domestically produced cotton.

List of Subjects in 7 CFR Part 1205

Advertising, Agricultural research, Cotton, Marketing agreements, Reporting and recordkeeping requirements.

For the reasons set forth in the preamble, the Agricultural Marketing Service amends 7 CFR part 1205 as follows:

PART 1205—COTTON RESEARCH AND PROMOTION

1. The authority citation for part 1205 continues to read as follows:

Authority: 7 U.S.C. 2101-2118; 7 U.S.C 7401.

2. In § 1205.510, paragraph (b)(2) and table 2 to paragraph (b)(3) are revised to read as follows:

§ 1205.510 Levy of assessments.

* * * * *

(b) * * *

(2) The 12-month average of monthly weighted average prices received by U.S. farmers will be calculated annually. Such weighted average will be used as the value of imported cotton for the purpose of levying the supplemental assessment on imported cotton and will be expressed in kilograms. The value of imported cotton for the purpose of levying this supplemental assessment is $1.3247 cents per kilogram.

(3) * * *

Table 2 to Paragraph (b)(3)—Import Assessment Table
[Raw cotton fiber]
HTS No. | Conv. factor. | Cents/kg.
5007106010 | 0.2713 | 0.3594
5007106020 | 0.2713 | 0.3594
5007906010 | 0.2713 | 0.3594
5007906020 | 0.2713 | 0.3594
5112904000 | 0.1085 | 0.1437
5112905000 | 0.1085 | 0.1437
5112909010 | 0.1085 | 0.1437
5112909090 | 0.1085 | 0.1437
5201000500 | 1 | 1.3247
5201001200 | 1 | 1.3247
5201001400 | 1 | 1.3247
5201001800 | 1 | 1.3247
5201002200 | 1 | 1.3247
5201002400 | 1 | 1.3247
5201002800 | 1 | 1.3247
5201003400 | 1 | 1.3247
5201003800 | 1 | 1.3247
5204110000 | 1.0526 | 1.3943
5204190000 | 0.6316 | 0.8367
5204200000 | 1.0526 | 1.3943
5205111000 | 1 | 1.3247
5205112000 | 1 | 1.3247
5205121000 | 1 | 1.3247
5205122000 | 1 | 1.3247
5205131000 | 1 | 1.3247
5205132000 | 1 | 1.3247
5205141000 | 1 | 1.3247
5205142000 | 1 | 1.3247
5205151000 | 1 | 1.3247
5205152000 | 1 | 1.3247
5205210020 | 1.0440 | 1.3829
5205210090 | 1.0440 | 1.3829
5205220020 | 1.0440 | 1.3829
5205220090 | 1.0440 | 1.3829
5205230020 | 1.0440 | 1.3829
5205230090 | 1.0440 | 1.3829
5205240020 | 1.0440 | 1.3829
5205240090 | 1.0440 | 1.3829
5205260020 | 1.0440 | 1.3829
5205260090 | 1.0440 | 1.3829
5205270020 | 1.0440 | 1.3829
5205270090 | 1.0440 | 1.3829
5205280020 | 1.0440 | 1.3829
5205280090 | 1.0440 | 1.3829
5205310000 | 1 | 1.3247
5205320000 | 1 | 1.3247
5205330000 | 1 | 1.3247
5205340000 | 1 | 1.3247
5205350000 | 1 | 1.3247
5205410020 | 1.0440 | 1.3829
5205410090 | 1.0440 | 1.3829
5205420021 | 1.0440 | 1.3829
5205420029 | 1.0440 | 1.3829
5205420090 | 1.0440 | 1.3829
5205430021 | 1.0440 | 1.3829
5205430029 | 1.0440 | 1.3829
5205430090 | 1.0440 | 1.3829
5205440021 | 1.0440 | 1.3829
5205440029 | 1.0440 | 1.3829
5205440090 | 1.0440 | 1.3829
5205460021 | 1.0440 | 1.3829
5205460029 | 1.0440 | 1.3829
5205460090 | 1.0440 | 1.3829
5205470021 | 1.0440 | 1.3829
5205470029 | 1.0440 | 1.3829
5205470090 | 1.0440 | 1.3829
5205480020 | 1.0440 | 1.3829
5205480090 | 1.0440 | 1.3829
5206110000 | 0.7368 | 0.9760
5206120000 | 0.7368 | 0.9760
5206130000 | 0.7368 | 0.9760
5206140000 | 0.7368 | 0.9760
5206150000 | 0.7368 | 0.9760
5206210000 | 0.7692 | 1.0189
5206220000 | 0.7692 | 1.0189
5206230000 | 0.7692 | 1.0189
5206240000 | 0.7692 | 1.0189
5206250000 | 0.7692 | 1.0189
5206310000 | 0.7368 | 0.9760
5206320000 | 0.7368 | 0.9760
5206330000 | 0.7368 | 0.9760
5206340000 | 0.7368 | 0.9760
5206350000 | 0.7368 | 0.9760
5206410000 | 0.7692 | 1.0189
5206420000 | 0.7692 | 1.0189
5206430000 | 0.7692 | 1.0189
5206440000 | 0.7692 | 1.0189
5206450000 | 0.7692 | 1.0189
5207100000 | 0.9474 | 1.2550
5207900000 | 0.6316 | 0.8367
5208112020 | 1.0852 | 1.4375
5208112040 | 1.0852 | 1.4375
5208112090 | 1.0852 | 1.4375
5208114020 | 1.0852 | 1.4375
5208114040 | 1.0852 | 1.4375
5208114060 | 1.0852 | 1.4375
5208114090 | 1.0852 | 1.4375
5208116000 | 1.0852 | 1.4375
5208118020 | 1.0852 | 1.4375
5208118090 | 1.0852 | 1.4375
5208124020 | 1.0852 | 1.4375
5208124040 | 1.0852 | 1.4375
5208124090 | 1.0852 | 1.4375
5208126020 | 1.0852 | 1.4375
5208126040 | 1.0852 | 1.4375
5208126060 | 1.0852 | 1.4375
5208126090 | 1.0852 | 1.4375
5208128020 | 1.0852 | 1.4375
5208128090 | 1.0852 | 1.4375
5208130000 | 1.0852 | 1.4375
5208192020 | 1.0852 | 1.4375
5208192090 | 1.0852 | 1.4375
5208194020 | 1.0852 | 1.4375
5208194090 | 1.0852 | 1.4375
5208196020 | 1.0852 | 1.4375
5208196090 | 1.0852 | 1.4375
5208198020 | 1.0852 | 1.4375
5208198090 | 1.0852 | 1.4375
5208212020 | 1.0852 | 1.4375
5208212040 | 1.0852 | 1.4375
5208212090 | 1.0852 | 1.4375
5208214020 | 1.0852 | 1.4375
5208214040 | 1.0852 | 1.4375
5208214060 | 1.0852 | 1.4375
5208214090 | 1.0852 | 1.4375
5208216020 | 1.0852 | 1.4375
5208216090 | 1.0852 | 1.4375
5208224020 | 1.0852 | 1.4375
5208224040 | 1.0852 | 1.4375
5208224090 | 1.0852 | 1.4375
5208226020 | 1.0852 | 1.4375
5208226040 | 1.0852 | 1.4375
5208226060 | 1.0852 | 1.4375
5208226090 | 1.0852 | 1.4375
5208228020 | 1.0852 | 1.4375
5208228090 | 1.0852 | 1.4375
5208230000 | 1.0852 | 1.4375
5208292020 | 1.0852 | 1.4375
5208292090 | 1.0852 | 1.4375
5208294020 | 1.0852 | 1.4375
5208294090 | 1.0852 | 1.4375
5208296020 | 1.0852 | 1.4375
5208296090 | 1.0852 | 1.4375
5208298020 | 1.0852 | 1.4375
5208298090 | 1.0852 | 1.4375
5208312000 | 1.0852 | 1.4375
5208314020 | 1.0852 | 1.4375
5208314040 | 1.0852 | 1.4375
5208314090 | 1.0852 | 1.4375
5208316020 | 1.0852 | 1.4375
5208316040 | 1.0852 | 1.4375
5208316060 | 1.0852 | 1.4375
5208316090 | 1.0852 | 1.4375
5208318020 | 1.0852 | 1.4375
5208318090 | 1.0852 | 1.4375
5208321000 | 1.0852 | 1.4375
5208323020 | 1.0852 | 1.4375
5208323040 | 1.0852 | 1.4375
5208323090 | 1.0852 | 1.4375
5208324020 | 1.0852 | 1.4375
5208324040 | 1.0852 | 1.4375
5208324060 | 1.0852 | 1.4375
5208324090 | 1.0852 | 1.4375
5208325020 | 1.0852 | 1.4375
5208325090 | 1.0852 | 1.4375
5208330000 | 1.0852 | 1.4375
5208392020 | 1.0852 | 1.4375
5208392090 | 1.0852 | 1.4375
5208394020 | 1.0852 | 1.4375
5208394090 | 1.0852 | 1.4375
5208396020 | 1.0852 | 1.4375
5208396090 | 1.0852 | 1.4375
5208398020 | 1.0852 | 1.4375
5208398090 | 1.0852 | 1.4375
5208412000 | 1.0852 | 1.4375
5208414000 | 1.0852 | 1.4375
5208416000 | 1.0852 | 1.4375
5208418000 | 1.0852 | 1.4375
5208421000 | 1.0852 | 1.4375
5208423000 | 1.0852 | 1.4375
5208424000 | 1.0852 | 1.4375
5208425000 | 1.0852 | 1.4375
5208430000 | 1.0852 | 1.4375
5208492000 | 1.0852 | 1.4375
5208494010 | 1.0852 | 1.4375
5208494020 | 1.0852 | 1.4375
5208494090 | 1.0852 | 1.4375
5208496010 | 1.0852 | 1.4375
5208496020 | 1.0852 | 1.4375
5208496030 | 1.0852 | 1.4375
5208496090 | 1.0852 | 1.4375
5208498020 | 1.0852 | 1.4375
5208498090 | 1.0852 | 1.4375
5208512000 | 1.0852 | 1.4375
5208514020 | 1.0852 | 1.4375
5208514040 | 1.0852 | 1.4375
5208514090 | 1.0852 | 1.4375
5208516020 | 1.0852 | 1.4375
5208516040 | 1.0852 | 1.4375
5208516060 | 1.0852 | 1.4375
5208516090 | 1.0852 | 1.4375
5208518020 | 1.0852 | 1.4375
5208518090 | 1.0852 | 1.4375
5208521000 | 1.0852 | 1.4375
5208523020 | 1.0852 | 1.4375
5208523035 | 1.0852 | 1.4375
5208523045 | 1.0852 | 1.4375
5208523090 | 1.0852 | 1.4375
5208524020 | 1.0852 | 1.4375
5208524035 | 1.0852 | 1.4375
5208524045 | 1.0852 | 1.4375
5208524055 | 1.0852 | 1.4375
5208524065 | 1.0852 | 1.4375
5208524090 | 1.0852 | 1.4375
5208525020 | 1.0852 | 1.4375
5208525090 | 1.0852 | 1.4375
5208591000 | 1.0852 | 1.4375
5208592015 | 1.0852 | 1.4375
5208592025 | 1.0852 | 1.4375
5208592085 | 1.0852 | 1.4375
5208592095 | 1.0852 | 1.4375
5208594020 | 1.0852 | 1.4375
5208594090 | 1.0852 | 1.4375
5208596020 | 1.0852 | 1.4375
5208596090 | 1.0852 | 1.4375
5208598020 | 1.0852 | 1.4375
5208598090 | 1.0852 | 1.4375
5209110020 | 1.0309 | 1.3656
5209110025 | 1.0309 | 1.3656
5209110035 | 1.0309 | 1.3656
5209110050 | 1.0309 | 1.3656
5209110090 | 1.0309 | 1.3656
5209120020 | 1.0309 | 1.3656
5209120040 | 1.0309 | 1.3656
5209190020 | 1.0309 | 1.3656
5209190040 | 1.0309 | 1.3656
5209190060 | 1.0309 | 1.3656
5209190090 | 1.0309 | 1.3656
5209210020 | 1.0309 | 1.3656
5209210025 | 1.0309 | 1.3656
5209210035 | 1.0309 | 1.3656
5209210050 | 1.0309 | 1.3656
5209210090 | 1.0309 | 1.3656
5209220020 | 1.0309 | 1.3656
5209220040 | 1.0309 | 1.3656
5209290020 | 1.0309 | 1.3656
5209290040 | 1.0309 | 1.3656
5209290060 | 1.0309 | 1.3656
5209290090 | 1.0309 | 1.3656
5209313000 | 1.0309 | 1.3656
5209316020 | 1.0309 | 1.3656
5209316025 | 1.0309 | 1.3656
5209316035 | 1.0309 | 1.3656
5209316050 | 1.0309 | 1.3656
5209316090 | 1.0309 | 1.3656
5209320020 | 1.0309 | 1.3656
5209320040 | 1.0309 | 1.3656
5209390020 | 1.0309 | 1.3656
5209390040 | 1.0309 | 1.3656
5209390060 | 1.0309 | 1.3656
5209390080 | 1.0309 | 1.3656
5209390090 | 1.0309 | 1.3656
5209413000 | 1.0309 | 1.3656
5209416020 | 1.0309 | 1.3656
5209416040 | 1.0309 | 1.3656
5209420020 | 0.9767 | 1.2938
5209420040 | 0.9767 | 1.2938
5209420060 | 0.9767 | 1.2938
5209420080 | 0.9767 | 1.2938
5209430030 | 1.0309 | 1.3656
5209430050 | 1.0309 | 1.3656
5209490020 | 1.0309 | 1.3656
5209490040 | 1.0309 | 1.3656
5209490090 | 1.0309 | 1.3656
5209513000 | 1.0309 | 1.3656
5209516015 | 1.0852 | 1.4375
5209516025 | 1.0852 | 1.4375
5209516032 | 1.0852 | 1.4375
5209516035 | 1.0852 | 1.4375
5209516050 | 1.0852 | 1.4375
5209516090 | 1.0852 | 1.4375
5209520020 | 1.0852 | 1.4375
5209520040 | 1.0852 | 1.4375
5209590015 | 1.0852 | 1.4375
5209590025 | 1.0852 | 1.4375
5209590040 | 1.0852 | 1.4375
5209590060 | 1.0852 | 1.4375
5209590090 | 1.0852 | 1.4375
5210114020 | 0.6511 | 0.8625
5210114040 | 0.6511 | 0.8625
5210114090 | 0.6511 | 0.8625
5210116020 | 0.6511 | 0.8625
5210116040 | 0.6511 | 0.8625
5210116060 | 0.6511 | 0.8625
5210116090 | 0.6511 | 0.8625
5210118020 | 0.6511 | 0.8625
5210118090 | 0.6511 | 0.8625
5210191000 | 0.6511 | 0.8625
5210192020 | 0.6511 | 0.8625
5210192090 | 0.6511 | 0.8625
5210194020 | 0.6511 | 0.8625
5210194090 | 0.6511 | 0.8625
5210196020 | 0.6511 | 0.8625
5210196090 | 0.6511 | 0.8625
5210198020 | 0.6511 | 0.8625
5210198090 | 0.6511 | 0.8625
5210214020 | 0.6511 | 0.8625
5210214040 | 0.6511 | 0.8625
5210214090 | 0.6511 | 0.8625
5210216020 | 0.6511 | 0.8625
5210216040 | 0.6511 | 0.8625
5210216060 | 0.6511 | 0.8625
5210216090 | 0.6511 | 0.8625
5210218020 | 0.6511 | 0.8625
5210218090 | 0.6511 | 0.8625
5210291000 | 0.6511 | 0.8625
5210292020 | 0.6511 | 0.8625
5210292090 | 0.6511 | 0.8625
5210294020 | 0.6511 | 0.8625
5210294090 | 0.6511 | 0.8625
5210296020 | 0.6511 | 0.8625
5210296090 | 0.6511 | 0.8625
5210298020 | 0.6511 | 0.8625
5210298090 | 0.6511 | 0.8625
5210314020 | 0.6511 | 0.8625
5210314040 | 0.6511 | 0.8625
5210314090 | 0.6511 | 0.8625
5210316020 | 0.6511 | 0.8625
5210316040 | 0.6511 | 0.8625
5210316060 | 0.6511 | 0.8625
5210316090 | 0.6511 | 0.8625
5210318020 | 0.6511 | 0.8625
5210318090 | 0.6511 | 0.8625
5210320000 | 0.6511 | 0.8625
5210392020 | 0.6511 | 0.8625
5210392090 | 0.6511 | 0.8625
5210394020 | 0.6511 | 0.8625
5210394090 | 0.6511 | 0.8625
5210396020 | 0.6511 | 0.8625
5210396090 | 0.6511 | 0.8625
5210398020 | 0.6511 | 0.8625
5210398090 | 0.6511 | 0.8625
5210414000 | 0.6511 | 0.8625
5210416000 | 0.6511 | 0.8625
5210418000 | 0.6511 | 0.8625
5210491000 | 0.6511 | 0.8625
5210492000 | 0.6511 | 0.8625
5210494010 | 0.6511 | 0.8625
5210494020 | 0.6511 | 0.8625
5210494090 | 0.6511 | 0.8625
5210496010 | 0.6511 | 0.8625
5210496020 | 0.6511 | 0.8625
5210496090 | 0.6511 | 0.8625
5210498020 | 0.6511 | 0.8625
5210498090 | 0.6511 | 0.8625
5210514020 | 0.6511 | 0.8625
5210514040 | 0.6511 | 0.8625
5210514090 | 0.6511 | 0.8625
5210516020 | 0.6511 | 0.8625
5210516040 | 0.6511 | 0.8625
5210516060 | 0.6511 | 0.8625
5210516090 | 0.6511 | 0.8625
5210518020 | 0.6511 | 0.8625
5210518090 | 0.6511 | 0.8625
5210591000 | 0.6511 | 0.8625
5210592020 | 0.6511 | 0.8625
5210592090 | 0.6511 | 0.8625
5210594020 | 0.6511 | 0.8625
5210594090 | 0.6511 | 0.8625
5210596020 | 0.6511 | 0.8625
5210596090 | 0.6511 | 0.8625
5210598020 | 0.6511 | 0.8625
5210598090 | 0.6511 | 0.8625
5211110020 | 0.6511 | 0.8625
5211110025 | 0.6511 | 0.8625
5211110035 | 0.6511 | 0.8625
5211110050 | 0.6511 | 0.8625
5211110090 | 0.6511 | 0.8625
5211120020 | 0.6511 | 0.8625
5211120040 | 0.6511 | 0.8625
5211190020 | 0.6511 | 0.8625
5211190040 | 0.6511 | 0.8625
5211190060 | 0.6511 | 0.8625
5211190090 | 0.6511 | 0.8625
5211202120 | 0.6511 | 0.8625
5211202125 | 0.6511 | 0.8625
5211202135 | 0.6511 | 0.8625
5211202150 | 0.6511 | 0.8625
5211202190 | 0.6511 | 0.8625
5211202220 | 0.6511 | 0.8625
5211202240 | 0.6511 | 0.8625
5211202920 | 0.6511 | 0.8625
5211202940 | 0.6511 | 0.8625
5211202960 | 0.6511 | 0.8625
5211202990 | 0.6511 | 0.8625
5211310020 | 0.6511 | 0.8625
5211310025 | 0.6511 | 0.8625
5211310035 | 0.6511 | 0.8625
5211310050 | 0.6511 | 0.8625
5211310090 | 0.6511 | 0.8625
5211320020 | 0.6511 | 0.8625
5211320040 | 0.6511 | 0.8625
5211390020 | 0.6511 | 0.8625
5211390040 | 0.6511 | 0.8625
5211390060 | 0.6511 | 0.8625
5211390090 | 0.6511 | 0.8625
5211410020 | 0.6511 | 0.8625
5211410040 | 0.6511 | 0.8625
5211420020 | 0.7054 | 0.9344
5211420040 | 0.7054 | 0.9344
5211420060 | 0.6511 | 0.8625
5211420080 | 0.6511 | 0.8625
5211430030 | 0.6511 | 0.8625
5211430050 | 0.6511 | 0.8625
5211490020 | 0.6511 | 0.8625
5211490090 | 0.6511 | 0.8625
5211510020 | 0.6511 | 0.8625
5211510030 | 0.6511 | 0.8625
5211510050 | 0.6511 | 0.8625
5211510090 | 0.6511 | 0.8625
5211520020 | 0.6511 | 0.8625
5211520040 | 0.6511 | 0.8625
5211590015 | 0.6511 | 0.8625
5211590025 | 0.6511 | 0.8625
5211590040 | 0.6511 | 0.8625
5211590060 | 0.6511 | 0.8625
5211590090 | 0.6511 | 0.8625
5212111010 | 0.5845 | 0.7743
5212111020 | 0.6231 | 0.8254
5212116010 | 0.8681 | 1.1499
5212116020 | 0.8681 | 1.1499
5212116030 | 0.8681 | 1.1499
5212116040 | 0.8681 | 1.1499
5212116050 | 0.8681 | 1.1499
5212116060 | 0.8681 | 1.1499
5212116070 | 0.8681 | 1.1499
5212116080 | 0.8681 | 1.1499
5212116090 | 0.8681 | 1.1499
5212121010 | 0.5845 | 0.7743
5212121020 | 0.6231 | 0.8254
5212126010 | 0.8681 | 1.1499
5212126020 | 0.8681 | 1.1499
5212126030 | 0.8681 | 1.1499
5212126040 | 0.8681 | 1.1499
5212126050 | 0.8681 | 1.1499
5212126060 | 0.8681 | 1.1499
5212126070 | 0.8681 | 1.1499
5212126080 | 0.8681 | 1.1499
5212126090 | 0.8681 | 1.1499
5212131010 | 0.5845 | 0.7743
5212131020 | 0.6231 | 0.8254
5212136010 | 0.8681 | 1.1499
5212136020 | 0.8681 | 1.1499
5212136030 | 0.8681 | 1.1499
5212136040 | 0.8681 | 1.1499
5212136050 | 0.8681 | 1.1499
5212136060 | 0.8681 | 1.1499
5212136070 | 0.8681 | 1.1499
5212136080 | 0.8681 | 1.1499
5212136090 | 0.8681 | 1.1499
5212141010 | 0.5845 | 0.7743
5212141020 | 0.6231 | 0.8254
5212146010 | 0.8681 | 1.1499
5212146020 | 0.8681 | 1.1499
5212146030 | 0.8681 | 1.1499
5212146090 | 0.8681 | 1.1499
5212151010 | 0.5845 | 0.7743
5212151020 | 0.6231 | 0.8254
5212156010 | 0.8681 | 1.1499
5212156020 | 0.8681 | 1.1499
5212156030 | 0.8681 | 1.1499
5212156040 | 0.8681 | 1.1499
5212156050 | 0.8681 | 1.1499
5212156060 | 0.8681 | 1.1499
5212156070 | 0.8681 | 1.1499
5212156080 | 0.8681 | 1.1499
5212156090 | 0.8681 | 1.1499
5212211010 | 0.5845 | 0.7743
5212211020 | 0.6231 | 0.8254
5212216010 | 0.8681 | 1.1499
5212216020 | 0.8681 | 1.1499
5212216030 | 0.8681 | 1.1499
5212216040 | 0.8681 | 1.1499
5212216050 | 0.8681 | 1.1499
5212216060 | 0.8681 | 1.1499
5212216090 | 0.8681 | 1.1499
5212221010 | 0.5845 | 0.7743
5212221020 | 0.6231 | 0.8254
5212226010 | 0.8681 | 1.1499
5212226020 | 0.8681 | 1.1499
5212226030 | 0.8681 | 1.1499
5212226040 | 0.8681 | 1.1499
5212226050 | 0.8681 | 1.1499
5212226060 | 0.8681 | 1.1499
5212226090 | 0.8681 | 1.1499
5212231010 | 0.5845 | 0.7743
5212231020 | 0.6231 | 0.8254
5212236010 | 0.8681 | 1.1499
5212236020 | 0.8681 | 1.1499
5212236030 | 0.8681 | 1.1499
5212236040 | 0.8681 | 1.1499
5212236050 | 0.8681 | 1.1499
5212236060 | 0.8681 | 1.1499
5212236090 | 0.8681 | 1.1499
5212241010 | 0.5845 | 0.7743
5212241020 | 0.6231 | 0.8254
5212246010 | 0.8681 | 1.1499
5212246020 | 0.7054 | 0.9344
5212246030 | 0.8681 | 1.1499
5212246040 | 0.8681 | 1.1499
5212246090 | 0.8681 | 1.1499
5212251010 | 0.5845 | 0.7743
5212251020 | 0.6231 | 0.8254
5212256010 | 0.8681 | 1.1499
5212256020 | 0.8681 | 1.1499
5212256030 | 0.8681 | 1.1499
5212256040 | 0.8681 | 1.1499
5212256050 | 0.8681 | 1.1499
5212256060 | 0.8681 | 1.1499
5212256090 | 0.8681 | 1.1499
5309213005 | 0.5426 | 0.7188
5309213010 | 0.5426 | 0.7188
5309213015 | 0.5426 | 0.7188
5309213020 | 0.5426 | 0.7188
5309214010 | 0.2713 | 0.3594
5309214090 | 0.2713 | 0.3594
5309293005 | 0.5426 | 0.7188
5309293010 | 0.5426 | 0.7188
5309293015 | 0.5426 | 0.7188
5309293020 | 0.5426 | 0.7188
5309294010 | 0.2713 | 0.3594
5309294090 | 0.2713 | 0.3594
5311003005 | 0.5426 | 0.7188
5311003010 | 0.5426 | 0.7188
5311003015 | 0.5426 | 0.7188
5311003020 | 0.5426 | 0.7188
5311004010 | 0.8681 | 1.1499
5311004020 | 0.8681 | 1.1499
5407810010 | 0.5426 | 0.7188
5407810020 | 0.5426 | 0.7188
5407810030 | 0.5426 | 0.7188
5407810040 | 0.5426 | 0.7188
5407810090 | 0.5426 | 0.7188
5407820010 | 0.5426 | 0.7188
5407820020 | 0.5426 | 0.7188
5407820030 | 0.5426 | 0.7188
5407820040 | 0.5426 | 0.7188
5407820090 | 0.5426 | 0.7188
5407830010 | 0.5426 | 0.7188
5407830020 | 0.5426 | 0.7188
5407830030 | 0.5426 | 0.7188
5407830040 | 0.5426 | 0.7188
5407830090 | 0.5426 | 0.7188
5407840010 | 0.5426 | 0.7188
5407840020 | 0.5426 | 0.7188
5407840030 | 0.5426 | 0.7188
5407840040 | 0.5426 | 0.7188
5407840090 | 0.5426 | 0.7188
5509210000 | 0.1053 | 0.1395
5509220010 | 0.1053 | 0.1395
5509220090 | 0.1053 | 0.1395
5509530030 | 0.3158 | 0.4183
5509530060 | 0.3158 | 0.4183
5509620000 | 0.5263 | 0.6972
5509920000 | 0.5263 | 0.6972
5510300000 | 0.3684 | 0.4880
5511200000 | 0.3158 | 0.4183
5512110010 | 0.1085 | 0.1437
5512110022 | 0.1085 | 0.1437
5512110027 | 0.1085 | 0.1437
5512110030 | 0.1085 | 0.1437
5512110040 | 0.1085 | 0.1437
5512110050 | 0.1085 | 0.1437
5512110060 | 0.1085 | 0.1437
5512110070 | 0.1085 | 0.1437
5512110090 | 0.1085 | 0.1437
5512190005 | 0.1085 | 0.1437
5512190010 | 0.1085 | 0.1437
5512190015 | 0.1085 | 0.1437
5512190022 | 0.1085 | 0.1437
5512190027 | 0.1085 | 0.1437
5512190030 | 0.1085 | 0.1437
5512190035 | 0.1085 | 0.1437
5512190040 | 0.1085 | 0.1437
5512190045 | 0.1085 | 0.1437
5512190050 | 0.1085 | 0.1437
5512190090 | 0.1085 | 0.1437
5512210010 | 0.0326 | 0.0432
5512210020 | 0.0326 | 0.0432
5512210030 | 0.0326 | 0.0432
5512210040 | 0.0326 | 0.0432
5512210060 | 0.0326 | 0.0432
5512210070 | 0.0326 | 0.0432
5512210090 | 0.0326 | 0.0432
5512290010 | 0.2170 | 0.2875
5512910010 | 0.0543 | 0.0719
5512990005 | 0.0543 | 0.0719
5512990010 | 0.0543 | 0.0719
5512990015 | 0.0543 | 0.0719
5512990020 | 0.0543 | 0.0719
5512990025 | 0.0543 | 0.0719
5512990030 | 0.0543 | 0.0719
5512990035 | 0.0543 | 0.0719
5512990040 | 0.0543 | 0.0719
5512990045 | 0.0543 | 0.0719
5512990090 | 0.0543 | 0.0719
5513110020 | 0.3581 | 0.4744
5513110040 | 0.3581 | 0.4744
5513110060 | 0.3581 | 0.4744
5513110090 | 0.3581 | 0.4744
5513120000 | 0.3581 | 0.4744
5513130020 | 0.3581 | 0.4744
5513130040 | 0.3581 | 0.4744
5513130090 | 0.3581 | 0.4744
5513190010 | 0.3581 | 0.4744
5513190020 | 0.3581 | 0.4744
5513190030 | 0.3581 | 0.4744
5513190040 | 0.3581 | 0.4744
5513190050 | 0.3581 | 0.4744
5513190060 | 0.3581 | 0.4744
5513190090 | 0.3581 | 0.4744
5513210020 | 0.3581 | 0.4744
5513210040 | 0.3581 | 0.4744
5513210060 | 0.3581 | 0.4744
5513210090 | 0.3581 | 0.4744
5513230121 | 0.3581 | 0.4744
5513230141 | 0.3581 | 0.4744
5513230191 | 0.3581 | 0.4744
5513290010 | 0.3581 | 0.4744
5513290020 | 0.3581 | 0.4744
5513290030 | 0.3581 | 0.4744
5513290040 | 0.3581 | 0.4744
5513290050 | 0.3581 | 0.4744
5513290060 | 0.3581 | 0.4744
5513290090 | 0.3581 | 0.4744
5513310000 | 0.3581 | 0.4744
5513390111 | 0.3581 | 0.4744
5513390115 | 0.3581 | 0.4744
5513390191 | 0.3581 | 0.4744
5513410020 | 0.3581 | 0.4744
5513410040 | 0.3581 | 0.4744
5513410060 | 0.3581 | 0.4744
5513410090 | 0.3581 | 0.4744
5513491000 | 0.3581 | 0.4744
5513492020 | 0.3581 | 0.4744
5513492040 | 0.3581 | 0.4744
5513492090 | 0.3581 | 0.4744
5513499010 | 0.3581 | 0.4744
5513499020 | 0.3581 | 0.4744
5513499030 | 0.3581 | 0.4744
5513499040 | 0.3581 | 0.4744
5513499050 | 0.3581 | 0.4744
5513499060 | 0.3581 | 0.4744
5513499090 | 0.3581 | 0.4744
5514110020 | 0.4341 | 0.5750
5514110030 | 0.4341 | 0.5750
5514110050 | 0.4341 | 0.5750
5514110090 | 0.4341 | 0.5750
5514120020 | 0.4341 | 0.5750
5514120040 | 0.4341 | 0.5750
5514191020 | 0.4341 | 0.5750
5514191040 | 0.4341 | 0.5750
5514191090 | 0.4341 | 0.5750
5514199010 | 0.4341 | 0.5750
5514199020 | 0.4341 | 0.5750
5514199030 | 0.4341 | 0.5750
5514199040 | 0.4341 | 0.5750
5514199090 | 0.4341 | 0.5750
5514210020 | 0.4341 | 0.5750
5514210030 | 0.4341 | 0.5750
5514210050 | 0.4341 | 0.5750
5514210090 | 0.4341 | 0.5750
5514220020 | 0.4341 | 0.5750
5514220040 | 0.4341 | 0.5750
5514230020 | 0.4341 | 0.5750
5514230040 | 0.4341 | 0.5750
5514230090 | 0.4341 | 0.5750
5514290010 | 0.4341 | 0.5750
5514290020 | 0.4341 | 0.5750
5514290030 | 0.4341 | 0.5750
5514290040 | 0.4341 | 0.5750
5514290090 | 0.4341 | 0.5750
5514303100 | 0.4341 | 0.5750
5514303210 | 0.4341 | 0.5750
5514303215 | 0.4341 | 0.5750
5514303280 | 0.4341 | 0.5750
5514303310 | 0.4341 | 0.5750
5514303390 | 0.4341 | 0.5750
5514303910 | 0.4341 | 0.5750
5514303920 | 0.4341 | 0.5750
5514303990 | 0.4341 | 0.5750
5514410020 | 0.4341 | 0.5750
5514410030 | 0.4341 | 0.5750
5514410050 | 0.4341 | 0.5750
5514410090 | 0.4341 | 0.5750
5514420020 | 0.4341 | 0.5750
5514420040 | 0.4341 | 0.5750
5514430020 | 0.4341 | 0.5750
5514430040 | 0.4341 | 0.5750
5514430090 | 0.4341 | 0.5750
5514490010 | 0.4341 | 0.5750
5514490020 | 0.4341 | 0.5750
5514490030 | 0.4341 | 0.5750
5514490040 | 0.4341 | 0.5750
5514490090 | 0.4341 | 0.5750
5515110005 | 0.1085 | 0.1437
5515110010 | 0.1085 | 0.1437
5515110015 | 0.1085 | 0.1437
5515110020 | 0.1085 | 0.1437
5515110025 | 0.1085 | 0.1437
5515110030 | 0.1085 | 0.1437
5515110035 | 0.1085 | 0.1437
5515110040 | 0.1085 | 0.1437
5515110045 | 0.1085 | 0.1437
5515110090 | 0.1085 | 0.1437
5515120010 | 0.1085 | 0.1437
5515120022 | 0.1085 | 0.1437
5515120027 | 0.1085 | 0.1437
5515120030 | 0.1085 | 0.1437
5515120040 | 0.1085 | 0.1437
5515120090 | 0.1085 | 0.1437
5515190005 | 0.1085 | 0.1437
5515190010 | 0.1085 | 0.1437
5515190015 | 0.1085 | 0.1437
5515190020 | 0.1085 | 0.1437
5515190025 | 0.1085 | 0.1437
5515190030 | 0.1085 | 0.1437
5515190035 | 0.1085 | 0.1437
5515190040 | 0.1085 | 0.1437
5515190045 | 0.1085 | 0.1437
5515190090 | 0.1085 | 0.1437
5515290005 | 0.1085 | 0.1437
5515290010 | 0.1085 | 0.1437
5515290015 | 0.1085 | 0.1437
5515290020 | 0.1085 | 0.1437
5515290025 | 0.1085 | 0.1437
5515290030 | 0.1085 | 0.1437
5515290035 | 0.1085 | 0.1437
5515290040 | 0.1085 | 0.1437
5515290045 | 0.1085 | 0.1437
5515290090 | 0.1085 | 0.1437
5515999005 | 0.1085 | 0.1437
5515999010 | 0.1085 | 0.1437
5515999015 | 0.1085 | 0.1437
5515999020 | 0.1085 | 0.1437
5515999025 | 0.1085 | 0.1437
5515999030 | 0.1085 | 0.1437
5515999035 | 0.1085 | 0.1437
5515999040 | 0.1085 | 0.1437
5515999045 | 0.1085 | 0.1437
5515999090 | 0.1085 | 0.1437
5516210010 | 0.1085 | 0.1437
5516210020 | 0.1085 | 0.1437
5516210030 | 0.1085 | 0.1437
5516210040 | 0.1085 | 0.1437
5516210090 | 0.1085 | 0.1437
5516220010 | 0.1085 | 0.1437
5516220020 | 0.1085 | 0.1437
5516220030 | 0.1085 | 0.1437
5516220040 | 0.1085 | 0.1437
5516220090 | 0.1085 | 0.1437
5516230010 | 0.1085 | 0.1437
5516230020 | 0.1085 | 0.1437
5516230030 | 0.1085 | 0.1437
5516230040 | 0.1085 | 0.1437
5516230090 | 0.1085 | 0.1437
5516240010 | 0.1085 | 0.1437
5516240020 | 0.1085 | 0.1437
5516240030 | 0.1085 | 0.1437
5516240040 | 0.1085 | 0.1437
5516240085 | 0.1085 | 0.1437
5516240095 | 0.1085 | 0.1437
5516410010 | 0.3798 | 0.5031
5516410022 | 0.3798 | 0.5031
5516410027 | 0.3798 | 0.5031
5516410030 | 0.3798 | 0.5031
5516410040 | 0.3798 | 0.5031
5516410050 | 0.3798 | 0.5031
5516410060 | 0.3798 | 0.5031
5516410070 | 0.3798 | 0.5031
5516410090 | 0.3798 | 0.5031
5516420010 | 0.3798 | 0.5031
5516420022 | 0.3798 | 0.5031
5516420027 | 0.3798 | 0.5031
5516420030 | 0.3798 | 0.5031
5516420040 | 0.3798 | 0.5031
5516420050 | 0.3798 | 0.5031
5516420060 | 0.3798 | 0.5031
5516420070 | 0.3798 | 0.5031
5516420090 | 0.3798 | 0.5031
5516430010 | 0.2170 | 0.2875
5516430015 | 0.3798 | 0.5031
5516430020 | 0.3798 | 0.5031
5516430035 | 0.3798 | 0.5031
5516430080 | 0.3798 | 0.5031
5516440010 | 0.3798 | 0.5031
5516440022 | 0.3798 | 0.5031
5516440027 | 0.3798 | 0.5031
5516440030 | 0.3798 | 0.5031
5516440040 | 0.3798 | 0.5031
5516440050 | 0.3798 | 0.5031
5516440060 | 0.3798 | 0.5031
5516440070 | 0.3798 | 0.5031
5516440090 | 0.3798 | 0.5031
5516910010 | 0.0543 | 0.0719
5516910020 | 0.0543 | 0.0719
5516910030 | 0.0543 | 0.0719
5516910040 | 0.0543 | 0.0719
5516910050 | 0.0543 | 0.0719
5516910060 | 0.0543 | 0.0719
5516910070 | 0.0543 | 0.0719
5516910090 | 0.0543 | 0.0719
5516920010 | 0.0543 | 0.0719
5516920020 | 0.0543 | 0.0719
5516920030 | 0.0543 | 0.0719
5516920040 | 0.0543 | 0.0719
5516920050 | 0.0543 | 0.0719
5516920060 | 0.0543 | 0.0719
5516920070 | 0.0543 | 0.0719
5516920090 | 0.0543 | 0.0719
5516930010 | 0.0543 | 0.0719
5516930020 | 0.0543 | 0.0719
5516930090 | 0.0543 | 0.0719
5516940010 | 0.0543 | 0.0719
5516940020 | 0.0543 | 0.0719
5516940030 | 0.0543 | 0.0719
5516940040 | 0.0543 | 0.0719
5516940050 | 0.0543 | 0.0719
5516940060 | 0.0543 | 0.0719
5516940070 | 0.0543 | 0.0719
5516940090 | 0.0543 | 0.0719
5601210010 | 0.9767 | 1.2938
5601210090 | 0.9767 | 1.2938
5601220010 | 0.1085 | 0.1437
5601220050 | 0.1085 | 0.1437
5601220091 | 0.1085 | 0.1437
5601300000 | 0.3256 | 0.4313
5602101000 | 0.0543 | 0.0719
5602109090 | 0.4341 | 0.5750
5602290000 | 0.4341 | 0.5750
5602909000 | 0.3256 | 0.4313
5603143000 | 0.2713 | 0.3594
5603910010 | 0.0217 | 0.0287
5603910090 | 0.0651 | 0.0862
5603920010 | 0.0217 | 0.0287
5603920070 | 0.0651 | 0.0862
5603920095 | 0.0651 | 0.0862
5603930010 | 0.0217 | 0.0287
5603930090 | 0.0651 | 0.0862
5603941090 | 0.3256 | 0.4313
5603943000 | 0.1628 | 0.2157
5603949010 | 0.0326 | 0.0432
5604100000 | 0.2632 | 0.3486
5604909000 | 0.2105 | 0.2788
5605009000 | 0.1579 | 0.2092
5606000010 | 0.1263 | 0.1673
5606000090 | 0.1263 | 0.1673
5607502500 | 0.1684 | 0.2231
5607909000 | 0.8421 | 1.1155
5608901000 | 1.0526 | 1.3943
5608902300 | 0.6316 | 0.8367
5608902700 | 0.6316 | 0.8367
5608903000 | 0.3158 | 0.4183
5609001000 | 0.8421 | 1.1155
5609004000 | 0.2105 | 0.2788
5701101300 | 0.0526 | 0.0697
5701101600 | 0.0526 | 0.0697
5701104000 | 0.0526 | 0.0697
5701109000 | 0.0526 | 0.0697
5701901010 | 1 | 1.3247
5701901020 | 1 | 1.3247
5701901030 | 0.0526 | 0.0697
5701901090 | 0.0526 | 0.0697
5701902010 | 0.9474 | 1.2550
5701902020 | 0.9474 | 1.2550
5701902030 | 0.0526 | 0.0697
5701902090 | 0.0526 | 0.0697
5702101000 | 0.0447 | 0.0592
5702109010 | 0.0447 | 0.0592
5702109020 | 0.8500 | 1.1260
5702109030 | 0.0447 | 0.0592
5702109090 | 0.0447 | 0.0592
5702201000 | 0.0447 | 0.0592
5702311000 | 0.0447 | 0.0592
5702312000 | 0.0895 | 0.1186
5702322000 | 0.0895 | 0.1186
5702391000 | 0.0895 | 0.1186
5702392010 | 0.8053 | 1.0667
5702392090 | 0.0447 | 0.0592
5702411000 | 0.0447 | 0.0592
5702412000 | 0.0447 | 0.0592
5702421000 | 0.0895 | 0.1186
5702422020 | 0.0895 | 0.1186
5702422080 | 0.0895 | 0.1186
5702491020 | 0.8947 | 1.1852
5702491080 | 0.8947 | 1.1852
5702492000 | 0.0895 | 0.1186
5702502000 | 0.0895 | 0.1186
5702504000 | 0.0447 | 0.0592
5702505200 | 0.0895 | 0.1186
5702505600 | 0.8500 | 1.1260
5702912000 | 0.0447 | 0.0592
5702913000 | 0.0447 | 0.0592
5702914000 | 0.0447 | 0.0592
5702921000 | 0.0447 | 0.0592
5702929000 | 0.0447 | 0.0592
5702990500 | 0.8947 | 1.1852
5702991500 | 0.8947 | 1.1852
5703291000 | 0.0452 | 0.0599
5703292010 | 0.0452 | 0.0599
5703391000 | 0.0452 | 0.0599
5703900000 | 0.3615 | 0.4789
5705001000 | 0.0452 | 0.0599
5705002005 | 0.0452 | 0.0599
5705002015 | 0.0452 | 0.0599
5705002020 | 0.7682 | 1.0176
5705002030 | 0.0452 | 0.0599
5705002090 | 0.1808 | 0.2395
5801210000 | 0.9767 | 1.2938
5801221000 | 0.9767 | 1.2938
5801229000 | 0.9767 | 1.2938
5801230000 | 0.9767 | 1.2938
5801260010 | 0.7596 | 1.0062
5801260020 | 0.7596 | 1.0062
5801271000 | 0.9767 | 1.2938
5801275010 | 1.0852 | 1.4375
5801275020 | 0.9767 | 1.2938
5801310000 | 0.2170 | 0.2875
5801320000 | 0.2170 | 0.2875
5801330000 | 0.2170 | 0.2875
5801360010 | 0.2170 | 0.2875
5801360020 | 0.2170 | 0.2875
5802101000 | 1.0309 | 1.3656
5802109000 | 1.0309 | 1.3656
5802200020 | 0.1085 | 0.1437
5802200090 | 0.3256 | 0.4313
5802300030 | 0.4341 | 0.5750
5802300090 | 0.1085 | 0.1437
5803001000 | 1.0852 | 1.4375
5803002000 | 0.8681 | 1.1499
5803003000 | 0.8681 | 1.1499
5803005000 | 0.3256 | 0.4313
5804101000 | 0.4341 | 0.5750
5804109090 | 0.2193 | 0.2905
5804291000 | 0.8772 | 1.1620
5804300020 | 0.3256 | 0.4313
5805001000 | 0.1085 | 0.1437
5805003000 | 1.0852 | 1.4375
5806101000 | 0.8681 | 1.1499
5806103090 | 0.2170 | 0.2875
5806200010 | 0.2577 | 0.3414
5806200090 | 0.2577 | 0.3414
5806310000 | 0.8681 | 1.1499
5806393080 | 0.2170 | 0.2875
5806400000 | 0.0814 | 0.1078
5807100510 | 0.8681 | 1.1499
5807102010 | 0.8681 | 1.1499
5807900510 | 0.8681 | 1.1499
5807902010 | 0.8681 | 1.1499
5808104000 | 0.2170 | 0.2875
5808107000 | 0.2170 | 0.2875
5808900010 | 0.4341 | 0.5750
5810100000 | 0.3256 | 0.4313
5810910010 | 0.7596 | 1.0062
5810910020 | 0.7596 | 1.0062
5810921000 | 0.2170 | 0.2875
5810929030 | 0.2170 | 0.2875
5810929050 | 0.2170 | 0.2875
5810929080 | 0.2170 | 0.2875
5811002000 | 0.8681 | 1.1499
5901102000 | 0.5643 | 0.7475
5901904000 | 0.8139 | 1.0781
5903101000 | 0.4341 | 0.5750
5903103000 | 0.1085 | 0.1437
5903201000 | 0.4341 | 0.5750
5903203090 | 0.1085 | 0.1437
5903901000 | 0.4341 | 0.5750
5903903090 | 0.1085 | 0.1437
5904901000 | 0.0326 | 0.0432
5905001000 | 0.1085 | 0.1437
5905009000 | 0.1085 | 0.1437
5906100000 | 0.4341 | 0.5750
5906911000 | 0.4341 | 0.5750
5906913000 | 0.1085 | 0.1437
5906991000 | 0.4341 | 0.5750
5906993000 | 0.1085 | 0.1437
5907002500 | 0.3798 | 0.5031
5907003500 | 0.3798 | 0.5031
5907008090 | 0.3798 | 0.5031
5908000000 | 0.7813 | 1.0350
5909001000 | 0.6837 | 0.9057
5909002000 | 0.4883 | 0.6468
5910001010 | 0.3798 | 0.5031
5910001020 | 0.3798 | 0.5031
5910001030 | 0.3798 | 0.5031
5910001060 | 0.3798 | 0.5031
5910001070 | 0.3798 | 0.5031
5910001090 | 0.6837 | 0.9057
5910009000 | 0.5697 | 0.7547
5911101000 | 0.1736 | 0.2300
5911102000 | 0.0434 | 0.0575
5911201000 | 0.4341 | 0.5750
5911310010 | 0.4341 | 0.5750
5911310020 | 0.4341 | 0.5750
5911310030 | 0.4341 | 0.5750
5911310080 | 0.4341 | 0.5750
5911320010 | 0.4341 | 0.5750
5911320020 | 0.4341 | 0.5750
5911320030 | 0.4341 | 0.5750
5911320080 | 0.4341 | 0.5750
5911400100 | 0.5426 | 0.7188
5911900040 | 0.3158 | 0.4183
5911900080 | 0.2105 | 0.2788
6001106000 | 0.1096 | 0.1452
6001210000 | 0.9868 | 1.3072
6001220000 | 0.1096 | 0.1452
6001290000 | 0.1096 | 0.1452
6001910010 | 0.8772 | 1.1620
6001910020 | 0.8772 | 1.1620
6001920010 | 0.0548 | 0.0726
6001920020 | 0.0548 | 0.0726
6001920030 | 0.0548 | 0.0726
6001920040 | 0.0548 | 0.0726
6001999000 | 0.1096 | 0.1452
6002404000 | 0.7401 | 0.9804
6002408020 | 0.1974 | 0.2615
6002408080 | 0.1974 | 0.2615
6002904000 | 0.7895 | 1.0458
6002908020 | 0.1974 | 0.2615
6002908080 | 0.1974 | 0.2615
6003201000 | 0.8772 | 1.1620
6003203000 | 0.8772 | 1.1620
6003301000 | 0.1096 | 0.1452
6003306000 | 0.1096 | 0.1452
6003401000 | 0.1096 | 0.1452
6003406000 | 0.1096 | 0.1452
6003901000 | 0.1096 | 0.1452
6003909000 | 0.1096 | 0.1452
6004100010 | 0.2961 | 0.3922
6004100025 | 0.2961 | 0.3922
6004100085 | 0.2961 | 0.3922
6004902010 | 0.2961 | 0.3922
6004902025 | 0.2961 | 0.3922
6004902085 | 0.2961 | 0.3922
6004909000 | 0.2961 | 0.3922
6005210000 | 0.7127 | 0.9441
6005220000 | 0.7127 | 0.9441
6005230000 | 0.7127 | 0.9441
6005240000 | 0.7127 | 0.9441
6005360010 | 0.1096 | 0.1452
6005360080 | 0.1096 | 0.1452
6005370010 | 0.1096 | 0.1452
6005370080 | 0.1096 | 0.1452
6005380010 | 0.1096 | 0.1452
6005380080 | 0.1096 | 0.1452
6005390010 | 0.1096 | 0.1452
6005390080 | 0.1096 | 0.1452
6005410010 | 0.1096 | 0.1452
6005410080 | 0.1096 | 0.1452
6005420010 | 0.1096 | 0.1452
6005420080 | 0.1096 | 0.1452
6005430010 | 0.1096 | 0.1452
6005430080 | 0.1096 | 0.1452
6005440010 | 0.1096 | 0.1452
6005440080 | 0.1096 | 0.1452
6005909000 | 0.1096 | 0.1452
6006211000 | 1.0965 | 1.4525
6006219020 | 0.7675 | 1.0167
6006219080 | 0.7675 | 1.0167
6006221000 | 1.0965 | 1.4525
6006229020 | 0.7675 | 1.0167
6006229080 | 0.7675 | 1.0167
6006231000 | 1.0965 | 1.4525
6006239020 | 0.7675 | 1.0167
6006239080 | 0.7675 | 1.0167
6006241000 | 1.0965 | 1.4525
6006249020 | 0.7675 | 1.0167
6006249080 | 0.7675 | 1.0167
6006310020 | 0.3289 | 0.4357
6006310040 | 0.3289 | 0.4357
6006310060 | 0.3289 | 0.4357
6006310080 | 0.3289 | 0.4357
6006320020 | 0.3289 | 0.4357
6006320040 | 0.3289 | 0.4357
6006320060 | 0.3289 | 0.4357
6006320080 | 0.3289 | 0.4357
6006330020 | 0.3289 | 0.4357
6006330040 | 0.3289 | 0.4357
6006330060 | 0.3289 | 0.4357
6006330080 | 0.3289 | 0.4357
6006340020 | 0.3289 | 0.4357
6006340040 | 0.3289 | 0.4357
6006340060 | 0.3289 | 0.4357
6006340080 | 0.3289 | 0.4357
6006410025 | 0.3289 | 0.4357
6006410085 | 0.3289 | 0.4357
6006420025 | 0.3289 | 0.4357
6006420085 | 0.3289 | 0.4357
6006430025 | 0.3289 | 0.4357
6006430085 | 0.3289 | 0.4357
6006440025 | 0.3289 | 0.4357
6006440085 | 0.3289 | 0.4357
6006909000 | 0.1096 | 0.1452
6101200010 | 1.0200 | 1.3511
6101200020 | 1.0200 | 1.3511
6101301000 | 0.2072 | 0.2745
6101900500 | 0.1912 | 0.2533
6101909010 | 0.5737 | 0.7600
6101909030 | 0.5100 | 0.6756
6101909060 | 0.2550 | 0.3378
6102100000 | 0.2550 | 0.3378
6102200010 | 0.9562 | 1.2666
6102200020 | 0.9562 | 1.2666
6102300500 | 0.1785 | 0.2365
6102909005 | 0.5737 | 0.7600
6102909015 | 0.4462 | 0.5911
6102909030 | 0.2550 | 0.3378
6103101000 | 0.0637 | 0.0844
6103104000 | 0.1218 | 0.1613
6103105000 | 0.1218 | 0.1613
6103106010 | 0.8528 | 1.1297
6103106015 | 0.8528 | 1.1297
6103106030 | 0.8528 | 1.1297
6103109010 | 0.5482 | 0.7262
6103109020 | 0.5482 | 0.7262
6103109030 | 0.5482 | 0.7262
6103109040 | 0.1218 | 0.1613
6103109050 | 0.1218 | 0.1613
6103109080 | 0.1827 | 0.2420
6103220040 | 0.7919 | 1.0490
6103220050 | 0.7919 | 1.0490
6103220080 | 0.9747 | 1.2911
6103230040 | 0.2437 | 0.3228
6103230045 | 0.2437 | 0.3228
6103230070 | 0.1218 | 0.1613
6103230075 | 0.3655 | 0.4842
6103292054 | 0.1218 | 0.1613
6103320000 | 0.8722 | 1.1554
6103398010 | 0.7476 | 0.9903
6103398030 | 0.3738 | 0.4952
6103398060 | 0.2492 | 0.3301
6103411010 | 0.3576 | 0.4737
6103411020 | 0.3576 | 0.4737
6103412000 | 0.3576 | 0.4737
6103421020 | 0.8343 | 1.1052
6103421035 | 0.8343 | 1.1052
6103421040 | 0.8343 | 1.1052
6103421050 | 0.8343 | 1.1052
6103421065 | 0.8343 | 1.1052
6103421070 | 0.8343 | 1.1052
6103422010 | 0.8343 | 1.1052
6103422015 | 0.8343 | 1.1052
6103422025 | 0.8343 | 1.1052
6103431520 | 0.2384 | 0.3158
6103431535 | 0.2384 | 0.3158
6103431540 | 0.2384 | 0.3158
6103431550 | 0.2384 | 0.3158
6103431565 | 0.2384 | 0.3158
6103431570 | 0.2384 | 0.3158
6103432020 | 0.2384 | 0.3158
6103432025 | 0.2384 | 0.3158
6103491020 | 0.2437 | 0.3228
6103491060 | 0.2437 | 0.3228
6103492000 | 0.2437 | 0.3228
6103498010 | 0.5482 | 0.7262
6103498014 | 0.3655 | 0.4842
6103498024 | 0.2437 | 0.3228
6103498026 | 0.2437 | 0.3228
6103498034 | 0.5482 | 0.7262
6103498038 | 0.3655 | 0.4842
6103498060 | 0.2437 | 0.3228
6104196010 | 0.8722 | 1.1554
6104196020 | 0.8722 | 1.1554
6104196030 | 0.8722 | 1.1554
6104196040 | 0.8722 | 1.1554
6104198010 | 0.5607 | 0.7427
6104198020 | 0.5607 | 0.7427
6104198030 | 0.5607 | 0.7427
6104198040 | 0.5607 | 0.7427
6104198060 | 0.3738 | 0.4952
6104198090 | 0.2492 | 0.3301
6104220010 | 0.8528 | 1.1297
6104220030 | 0.8528 | 1.1297
6104220040 | 0.8528 | 1.1297
6104220050 | 0.8528 | 1.1297
6104220060 | 0.8528 | 1.1297
6104220080 | 0.7310 | 0.9683
6104220090 | 0.8528 | 1.1297
6104230020 | 0.1218 | 0.1613
6104230026 | 0.1218 | 0.1613
6104230030 | 0.1218 | 0.1613
6104230032 | 0.1827 | 0.2420
6104230034 | 0.1827 | 0.2420
6104230036 | 0.1827 | 0.2420
6104291010 | 0.1218 | 0.1613
6104291020 | 0.1218 | 0.1613
6104291050 | 0.1827 | 0.2420
6104320000 | 0.8722 | 1.1554
6104392010 | 0.5607 | 0.7427
6104392030 | 0.3738 | 0.4952
6104392090 | 0.2492 | 0.3301
6104420010 | 0.8528 | 1.1297
6104420020 | 0.8528 | 1.1297
6104499010 | 0.5482 | 0.7262
6104499030 | 0.3655 | 0.4842
6104499060 | 0.2437 | 0.3228
6104520010 | 0.8822 | 1.1686
6104520020 | 0.8822 | 1.1686
6104598010 | 0.5672 | 0.7513
6104598030 | 0.3781 | 0.5009
6104598090 | 0.2521 | 0.3339
6104610010 | 0.2384 | 0.3158
6104610020 | 0.2384 | 0.3158
6104610030 | 0.2384 | 0.3158
6104621010 | 0.7509 | 0.9947
6104621020 | 0.8343 | 1.1052
6104621030 | 0.8343 | 1.1052
6104622006 | 0.7151 | 0.9473
6104622011 | 0.8343 | 1.1052
6104622016 | 0.7151 | 0.9473
6104622021 | 0.8343 | 1.1052
6104622026 | 0.7151 | 0.9473
6104622028 | 0.8343 | 1.1052
6104622030 | 0.8343 | 1.1052
6104622050 | 0.8343 | 1.1052
6104622060 | 0.8343 | 1.1052
6104631020 | 0.2384 | 0.3158
6104631030 | 0.2384 | 0.3158
6104632006 | 0.8343 | 1.1052
6104632011 | 0.8343 | 1.1052
6104632016 | 0.7151 | 0.9473
6104632021 | 0.8343 | 1.1052
6104632026 | 0.3576 | 0.4737
6104632028 | 0.3576 | 0.4737
6104632030 | 0.3576 | 0.4737
6104632050 | 0.7151 | 0.9473
6104632060 | 0.3576 | 0.4737
6104691000 | 0.3655 | 0.4842
6104692030 | 0.3655 | 0.4842
6104692060 | 0.3655 | 0.4842
6104698010 | 0.5482 | 0.7262
6104698014 | 0.3655 | 0.4842
6104698020 | 0.2437 | 0.3228
6104698022 | 0.5482 | 0.7262
6104698026 | 0.3655 | 0.4842
6104698038 | 0.2437 | 0.3228
6104698040 | 0.2437 | 0.3228
6105100010 | 0.9332 | 1.2362
6105100020 | 0.9332 | 1.2362
6105100030 | 0.9332 | 1.2362
6105202010 | 0.2916 | 0.3863
6105202020 | 0.2916 | 0.3863
6105202030 | 0.2916 | 0.3863
6105908010 | 0.5249 | 0.6953
6105908030 | 0.3499 | 0.4635
6105908060 | 0.2333 | 0.3090
6106100010 | 0.9332 | 1.2362
6106100020 | 0.9332 | 1.2362
6106100030 | 0.9332 | 1.2362
6106202010 | 0.2916 | 0.3863
6106202020 | 0.4666 | 0.6181
6106202030 | 0.2916 | 0.3863
6106901500 | 0.0583 | 0.0772
6106902510 | 0.5249 | 0.6953
6106902530 | 0.3499 | 0.4635
6106902550 | 0.2916 | 0.3863
6106903010 | 0.5249 | 0.6953
6106903030 | 0.3499 | 0.4635
6106903040 | 0.2916 | 0.3863
6107110010 | 1.0727 | 1.4210
6107110020 | 1.0727 | 1.4210
6107120010 | 0.4767 | 0.6315
6107120020 | 0.4767 | 0.6315
6107191000 | 0.1192 | 0.1579
6107210010 | 0.8343 | 1.1052
6107210020 | 0.7151 | 0.9473
6107220010 | 0.3576 | 0.4737
6107220015 | 0.1192 | 0.1579
6107220025 | 0.2384 | 0.3158
6107299000 | 0.1788 | 0.2368
6107910030 | 1.1918 | 1.5787
6107910040 | 1.1918 | 1.5787
6107910090 | 0.9535 | 1.2631
6107991030 | 0.3576 | 0.4737
6107991040 | 0.3576 | 0.4737
6107991090 | 0.3576 | 0.4737
6107999000 | 0.1192 | 0.1579
6108199010 | 1.0611 | 1.4056
6108199030 | 0.2358 | 0.3124
6108210010 | 1.1790 | 1.5618
6108210020 | 1.1790 | 1.5618
6108299000 | 0.3537 | 0.4685
6108310010 | 1.0611 | 1.4056
6108310020 | 1.0611 | 1.4056
6108320010 | 0.2358 | 0.3124
6108320015 | 0.2358 | 0.3124
6108320025 | 0.2358 | 0.3124
6108398000 | 0.3537 | 0.4685
6108910005 | 1.1790 | 1.5618
6108910015 | 1.1790 | 1.5618
6108910025 | 1.1790 | 1.5618
6108910030 | 1.1790 | 1.5618
6108910040 | 1.1790 | 1.5618
6108920005 | 0.2358 | 0.3124
6108920015 | 0.2358 | 0.3124
6108920025 | 0.2358 | 0.3124
6108920030 | 0.2358 | 0.3124
6108920040 | 0.2358 | 0.3124
6108999000 | 0.3537 | 0.4685
6109100004 | 1.0022 | 1.3276
6109100007 | 1.0022 | 1.3276
6109100011 | 1.0022 | 1.3276
6109100012 | 1.0022 | 1.3276
6109100014 | 1.0022 | 1.3276
6109100018 | 1.0022 | 1.3276
6109100023 | 1.0022 | 1.3276
6109100027 | 1.0022 | 1.3276
6109100037 | 1.0022 | 1.3276
6109100040 | 1.0022 | 1.3276
6109100045 | 1.0022 | 1.3276
6109100060 | 1.0022 | 1.3276
6109100065 | 1.0022 | 1.3276
6109100070 | 1.0022 | 1.3276
6109901007 | 0.2948 | 0.3905
6109901009 | 0.2948 | 0.3905
6109901013 | 0.2948 | 0.3905
6109901025 | 0.2948 | 0.3905
6109901047 | 0.2948 | 0.3905
6109901049 | 0.2948 | 0.3905
6109901050 | 0.2948 | 0.3905
6109901060 | 0.2948 | 0.3905
6109901065 | 0.2948 | 0.3905
6109901070 | 0.2948 | 0.3905
6109901075 | 0.2948 | 0.3905
6109901090 | 0.2948 | 0.3905
6109908010 | 0.3499 | 0.4635
6109908030 | 0.2333 | 0.3090
6110201010 | 0.7476 | 0.9903
6110201020 | 0.7476 | 0.9903
6110201022 | 0.7476 | 0.9903
6110201024 | 0.7476 | 0.9903
6110201026 | 0.7476 | 0.9903
6110201029 | 0.7476 | 0.9903
6110201031 | 0.7476 | 0.9903
6110201033 | 0.7476 | 0.9903
6110202005 | 1.1214 | 1.4855
6110202010 | 1.1214 | 1.4855
6110202015 | 1.1214 | 1.4855
6110202020 | 1.1214 | 1.4855
6110202025 | 1.1214 | 1.4855
6110202030 | 1.1214 | 1.4855
6110202035 | 1.1214 | 1.4855
6110202041 | 1.0965 | 1.4525
6110202044 | 1.0965 | 1.4525
6110202046 | 1.0965 | 1.4525
6110202049 | 1.0965 | 1.4525
6110202067 | 1.0965 | 1.4525
6110202069 | 1.0965 | 1.4525
6110202077 | 1.0965 | 1.4525
6110202079 | 1.0965 | 1.4525
6110909010 | 0.5607 | 0.7427
6110909012 | 0.1246 | 0.1651
6110909014 | 0.3738 | 0.4952
6110909023 | 0.2492 | 0.3301
6110909026 | 0.5607 | 0.7427
6110909028 | 0.1869 | 0.2476
6110909030 | 0.3738 | 0.4952
6110909041 | 0.2492 | 0.3301
6110909044 | 0.5607 | 0.7427
6110909046 | 0.5607 | 0.7427
6110909052 | 0.3738 | 0.4952
6110909054 | 0.3738 | 0.4952
6110909064 | 0.2492 | 0.3301
6110909066 | 0.2492 | 0.3301
6110909067 | 0.5607 | 0.7427
6110909069 | 0.5607 | 0.7427
6110909071 | 0.5607 | 0.7427
6110909073 | 0.5607 | 0.7427
6110909079 | 0.3738 | 0.4952
6110909080 | 0.3738 | 0.4952
6110909081 | 0.3738 | 0.4952
6110909082 | 0.3738 | 0.4952
6110909088 | 0.2492 | 0.3301
6110909090 | 0.2492 | 0.3301
6111201000 | 1.1918 | 1.5787
6111202000 | 1.1918 | 1.5787
6111203000 | 0.9535 | 1.2631
6111204000 | 0.9535 | 1.2631
6111205000 | 0.9535 | 1.2631
6111206010 | 0.9535 | 1.2631
6111206020 | 0.9535 | 1.2631
6111206030 | 0.9535 | 1.2631
6111206050 | 0.9535 | 1.2631
6111206070 | 0.9535 | 1.2631
6111301000 | 0.2384 | 0.3158
6111302000 | 0.2384 | 0.3158
6111303000 | 0.2384 | 0.3158
6111304000 | 0.2384 | 0.3158
6111305010 | 0.2384 | 0.3158
6111305015 | 0.2384 | 0.3158
6111305020 | 0.2384 | 0.3158
6111305030 | 0.2384 | 0.3158
6111305050 | 0.2384 | 0.3158
6111305070 | 0.2384 | 0.3158
6111901000 | 0.2384 | 0.3158
6111902000 | 0.2384 | 0.3158
6111903000 | 0.2384 | 0.3158
6111904000 | 0.2384 | 0.3158
6111905010 | 0.2384 | 0.3158
6111905020 | 0.2384 | 0.3158
6111905030 | 0.2384 | 0.3158
6111905050 | 0.2384 | 0.3158
6111905070 | 0.2384 | 0.3158
6112110010 | 0.9535 | 1.2631
6112110020 | 0.9535 | 1.2631
6112110030 | 0.9535 | 1.2631
6112110040 | 0.9535 | 1.2631
6112110050 | 0.9535 | 1.2631
6112110060 | 0.9535 | 1.2631
6112120010 | 0.2384 | 0.3158
6112120020 | 0.2384 | 0.3158
6112120030 | 0.2384 | 0.3158
6112120040 | 0.2384 | 0.3158
6112120050 | 0.2384 | 0.3158
6112120060 | 0.2384 | 0.3158
6112191010 | 0.2492 | 0.3301
6112191020 | 0.2492 | 0.3301
6112191030 | 0.2492 | 0.3301
6112191040 | 0.2492 | 0.3301
6112191050 | 0.2492 | 0.3301
6112191060 | 0.2492 | 0.3301
6112201060 | 0.2492 | 0.3301
6112201070 | 0.2492 | 0.3301
6112201080 | 0.2492 | 0.3301
6112201090 | 0.2492 | 0.3301
6112202010 | 0.8722 | 1.1554
6112202020 | 0.3738 | 0.4952
6112202030 | 0.2492 | 0.3301
6112310010 | 0.1192 | 0.1579
6112310020 | 0.1192 | 0.1579
6112390010 | 1.0727 | 1.4210
6112410010 | 0.1192 | 0.1579
6112410020 | 0.1192 | 0.1579
6112410030 | 0.1192 | 0.1579
6112410040 | 0.1192 | 0.1579
6112490010 | 0.8939 | 1.1841
6113001005 | 0.1246 | 0.1651
6113001010 | 0.1246 | 0.1651
6113001012 | 0.1246 | 0.1651
6113009015 | 0.3489 | 0.4622
6113009020 | 0.3489 | 0.4622
6113009038 | 0.3489 | 0.4622
6113009042 | 0.3489 | 0.4622
6113009055 | 0.3489 | 0.4622
6113009060 | 0.3489 | 0.4622
6113009074 | 0.3489 | 0.4622
6113009082 | 0.3489 | 0.4622
6114200005 | 0.9747 | 1.2911
6114200010 | 0.9747 | 1.2911
6114200015 | 0.8528 | 1.1297
6114200020 | 0.8528 | 1.1297
6114200035 | 0.8528 | 1.1297
6114200040 | 0.8528 | 1.1297
6114200042 | 0.3655 | 0.4842
6114200044 | 0.8528 | 1.1297
6114200046 | 0.8528 | 1.1297
6114200048 | 0.8528 | 1.1297
6114200052 | 0.8528 | 1.1297
6114200055 | 0.8528 | 1.1297
6114200060 | 0.8528 | 1.1297
6114301010 | 0.2437 | 0.3228
6114301020 | 0.2437 | 0.3228
6114302060 | 0.1218 | 0.1613
6114303014 | 0.2437 | 0.3228
6114303020 | 0.2437 | 0.3228
6114303030 | 0.2437 | 0.3228
6114303042 | 0.2437 | 0.3228
6114303044 | 0.2437 | 0.3228
6114303052 | 0.2437 | 0.3228
6114303054 | 0.2437 | 0.3228
6114303060 | 0.2437 | 0.3228
6114303070 | 0.2437 | 0.3228
6114909045 | 0.5482 | 0.7262
6114909055 | 0.3655 | 0.4842
6114909070 | 0.3655 | 0.4842
6115100500 | 0.4386 | 0.5810
6115101510 | 1.0965 | 1.4525
6115103000 | 0.9868 | 1.3072
6115106000 | 0.1096 | 0.1452
6115298010 | 1.0965 | 1.4525
6115309030 | 0.7675 | 1.0167
6115956000 | 0.9868 | 1.3072
6115959000 | 0.9868 | 1.3072
6115966020 | 0.2193 | 0.2905
6115991420 | 0.2193 | 0.2905
6115991920 | 0.2193 | 0.2905
6115999000 | 0.1096 | 0.1452
6116101300 | 0.3463 | 0.4587
6116101720 | 0.8079 | 1.0702
6116104810 | 0.4444 | 0.5887
6116105510 | 0.6464 | 0.8563
6116107510 | 0.6464 | 0.8563
6116109500 | 0.1616 | 0.2141
6116920500 | 0.8079 | 1.0702
6116920800 | 0.8079 | 1.0702
6116926410 | 1.0388 | 1.3761
6116926420 | 1.0388 | 1.3761
6116926430 | 1.1542 | 1.5289
6116926440 | 1.0388 | 1.3761
6116927450 | 1.0388 | 1.3761
6116927460 | 1.1542 | 1.5289
6116927470 | 1.0388 | 1.3761
6116928800 | 1.0388 | 1.3761
6116929400 | 1.0388 | 1.3761
6116938800 | 0.1154 | 0.1529
6116939400 | 0.1154 | 0.1529
6116994800 | 0.1154 | 0.1529
6116995400 | 0.1154 | 0.1529
6116999510 | 0.4617 | 0.6116
6116999530 | 0.3463 | 0.4587
6117106010 | 0.9234 | 1.2232
6117106020 | 0.2308 | 0.3057
6117808500 | 0.9234 | 1.2232
6117808710 | 1.1542 | 1.5289
6117808770 | 0.1731 | 0.2293
6117809510 | 0.9234 | 1.2232
6117809540 | 0.3463 | 0.4587
6117809570 | 0.1731 | 0.2293
6117909003 | 1.1542 | 1.5289
6117909015 | 0.2308 | 0.3057
6117909020 | 1.1542 | 1.5289
6117909040 | 1.1542 | 1.5289
6117909060 | 1.1542 | 1.5289
6117909080 | 1.1542 | 1.5289
6201301200 | 0.8981 | 1.1897
6201302010 | 1.0602 | 1.4044
6201302020 | 1.0602 | 1.4044
6201302025 | 1.2473 | 1.6522
6201302035 | 1.2473 | 1.6522
6201302050 | 0.8108 | 1.0740
6201302060 | 0.8108 | 1.0740
6201303000 | 0.6486 | 0.8592
6201304000 | 0.8108 | 1.0740
6201305005 | 0.8108 | 1.0740
6201305010 | 0.8108 | 1.0740
6201305021 | 1.2473 | 1.6522
6201305031 | 1.2473 | 1.6522
6201305041 | 1.2473 | 1.6522
6201305051 | 0.8108 | 1.0740
6201305061 | 0.8108 | 1.0740
6201306000 | 0.6486 | 0.8592
6201307000 | 0.8108 | 1.0740
6201308005 | 0.8108 | 1.0740
6201308010 | 0.8108 | 1.0740
6201308021 | 1.2473 | 1.6522
6201308031 | 1.2473 | 1.6522
6201308041 | 1.2473 | 1.6522
6201308051 | 0.8108 | 1.0740
6201308061 | 0.8108 | 1.0740
6201402015 | 0.2495 | 0.3305
6201402020 | 0.2495 | 0.3305
6201402030 | 0.3118 | 0.4130
6201402040 | 0.3118 | 0.4130
6201404500 | 0.3118 | 0.4130
6201405011 | 0.3118 | 0.4130
6201405021 | 0.3118 | 0.4130
6201407000 | 0.3118 | 0.4130
6201407511 | 0.3118 | 0.4130
6201407521 | 0.3118 | 0.4130
6201902910 | 0.5613 | 0.7435
6201902930 | 0.3742 | 0.4957
6201902960 | 0.3742 | 0.4957
6201904910 | 0.5613 | 0.7435
6201904930 | 0.3742 | 0.4957
6201904960 | 0.3742 | 0.4957
6201906910 | 0.5613 | 0.7435
6201906930 | 0.3742 | 0.4957
6201906960 | 0.3742 | 0.4957
6202301200 | 0.8879 | 1.1762
6202302010 | 1.0482 | 1.3885
6202302020 | 1.0482 | 1.3885
6202302025 | 1.2332 | 1.6336
6202302035 | 1.2332 | 1.6336
6202302050 | 0.8016 | 1.0618
6202302060 | 0.8016 | 1.0618
6202303000 | 0.9865 | 1.3068
6202304000 | 0.9865 | 1.3068
6202305010 | 0.9865 | 1.3068
6202305020 | 0.9865 | 1.3068
6202305026 | 1.2332 | 1.6336
6202305031 | 1.2332 | 1.6336
6202305061 | 0.9865 | 1.3068
6202305071 | 0.9865 | 1.3068
6202306000 | 0.9865 | 1.3068
6202307000 | 0.9865 | 1.3068
6202308010 | 0.9865 | 1.3068
6202308020 | 0.9865 | 1.3068
6202308026 | 1.2332 | 1.6336
6202308031 | 1.2332 | 1.6336
6202308061 | 0.9865 | 1.3068
6202308071 | 0.9865 | 1.3068
6202402005 | 0.2524 | 0.3343
6202402010 | 0.2524 | 0.3343
6202402020 | 0.3155 | 0.4179
6202402030 | 0.3155 | 0.4179
6202402500 | 0.2960 | 0.3921
6202403510 | 0.2466 | 0.3267
6202403520 | 0.2466 | 0.3267
6202405011 | 0.2466 | 0.3267
6202405021 | 0.2466 | 0.3267
6202405500 | 0.2960 | 0.3921
6202406010 | 0.2466 | 0.3267
6202406020 | 0.2466 | 0.3267
6202407511 | 0.2466 | 0.3267
6202407521 | 0.2466 | 0.3267
6202902910 | 0.5678 | 0.7521
6202902930 | 0.3786 | 0.5015
6202902960 | 0.2524 | 0.3343
6202904911 | 0.5549 | 0.7351
6202904931 | 0.3700 | 0.4901
6202904961 | 0.2466 | 0.3267
6202906911 | 0.5549 | 0.7351
6202906931 | 0.3700 | 0.4901
6202906961 | 0.2466 | 0.3267
6203122010 | 0.1233 | 0.1633
6203122020 | 0.1233 | 0.1633
6203191010 | 0.9865 | 1.3068
6203191020 | 0.9865 | 1.3068
6203191030 | 0.9865 | 1.3068
6203199010 | 0.5549 | 0.7351
6203199020 | 0.5549 | 0.7351
6203199030 | 0.5549 | 0.7351
6203199050 | 0.37 | 0.4901
6203199080 | 0.2466 | 0.3267
6203221000 | 1.2332 | 1.6336
6203223010 | 0.9865 | 1.3068
6203223015 | 0.9865 | 1.3068
6203223020 | 0.9865 | 1.3068
6203223030 | 0.9865 | 1.3068
6203223050 | 0.9865 | 1.3068
6203223060 | 0.9865 | 1.3068
6203230050 | 0.3083 | 0.4084
6203230055 | 0.3083 | 0.4084
6203230060 | 0.3083 | 0.4084
6203230070 | 0.3083 | 0.4084
6203230080 | 0.3083 | 0.4084
6203230090 | 0.3083 | 0.4084
6203321000 | 0.6782 | 0.8984
6203322010 | 1.1715 | 1.5518
6203322020 | 1.1715 | 1.5518
6203322030 | 1.1715 | 1.5518
6203322040 | 1.1715 | 1.5518
6203322050 | 1.1715 | 1.5518
6203332010 | 0.1233 | 0.1633
6203332020 | 0.1233 | 0.1633
6203392010 | 0.1233 | 0.1633
6203392020 | 0.1233 | 0.1633
6203399010 | 0.5549 | 0.7351
6203399030 | 0.3700 | 0.4901
6203399060 | 0.2466 | 0.3267
6203420300 | 1.0616 | 1.4063
6203420505 | 0.7077 | 0.9375
6203420510 | 0.9436 | 1.2499
6203420525 | 0.9436 | 1.2499
6203420550 | 0.9436 | 1.2499
6203420590 | 0.9436 | 1.2499
6203420703 | 1.0616 | 1.4063
6203420706 | 1.1796 | 1.5626
6203420711 | 1.1796 | 1.5626
6203420716 | 0.9436 | 1.2499
6203420721 | 1.1796 | 1.5626
6203420726 | 1.1796 | 1.5626
6203420731 | 1.1796 | 1.5626
6203420736 | 1.1796 | 1.5626
6203420741 | 0.9436 | 1.2499
6203420746 | 0.9436 | 1.2499
6203420751 | 0.8752 | 1.1593
6203420756 | 0.8752 | 1.1593
6203420761 | 0.8752 | 1.1593
6203421700 | 1.0616 | 1.4063
6203422505 | 0.7077 | 0.9375
6203422510 | 0.9436 | 1.2499
6203422525 | 0.9436 | 1.2499
6203422550 | 0.9436 | 1.2499
6203422590 | 0.9436 | 1.2499
6203424503 | 1.0616 | 1.4063
6203424506 | 1.1796 | 1.5626
6203424511 | 1.1796 | 1.5626
6203424514 | 0.9436 | 1.2499
6203424518 | 0.9436 | 1.2499
6203424521 | 1.1796 | 1.5626
6203424526 | 1.1796 | 1.5626
6203424531 | 1.1796 | 1.5626
6203424536 | 1.1796 | 1.5626
6203424541 | 0.9436 | 1.2499
6203424546 | 0.9436 | 1.2499
6203424551 | 0.8752 | 1.1593
6203424556 | 0.8752 | 1.1593
6203424561 | 0.8752 | 1.1593
6203430100 | 0.1887 | 0.2500
6203430300 | 0.1180 | 0.1563
6203430505 | 0.1180 | 0.1563
6203430510 | 0.2359 | 0.3125
6203430525 | 0.2359 | 0.3125
6203430550 | 0.2359 | 0.3125
6203430590 | 0.2359 | 0.3125
6203431110 | 0.0590 | 0.0782
6203431190 | 0.0590 | 0.0782
6203431310 | 0.1167 | 0.1546
6203431315 | 0.1167 | 0.1546
6203431320 | 0.1167 | 0.1546
6203431330 | 0.1167 | 0.1546
6203431335 | 0.1167 | 0.1546
6203431340 | 0.1167 | 0.1546
6203434500 | 0.1887 | 0.2500
6203435500 | 0.1180 | 0.1563
6203436005 | 0.1180 | 0.1563
6203436010 | 0.2359 | 0.3125
6203436025 | 0.2359 | 0.3125
6203436050 | 0.2359 | 0.3125
6203436090 | 0.2359 | 0.3125
6203436500 | 0.4128 | 0.5468
6203437510 | 0.0590 | 0.0782
6203437590 | 0.0590 | 0.0782
6203439009 | 0.1167 | 0.1546
6203439011 | 0.1167 | 0.1546
6203439015 | 0.1167 | 0.1546
6203439020 | 0.1167 | 0.1546
6203439030 | 0.1167 | 0.1546
6203439035 | 0.1167 | 0.1546
6203439040 | 0.1167 | 0.1546
6203490105 | 0.1180 | 0.1563
6203490110 | 0.2359 | 0.3125
6203490125 | 0.2359 | 0.3125
6203490150 | 0.2359 | 0.3125
6203490190 | 0.2359 | 0.3125
6203490515 | 0.2359 | 0.3125
6203490520 | 0.2359 | 0.3125
6203490530 | 0.1180 | 0.1563
6203490545 | 0.1180 | 0.1563
6203490550 | 0.1180 | 0.1563
6203490560 | 0.1180 | 0.1563
6203490920 | 0.5308 | 0.7031
6203490930 | 0.3539 | 0.4688
6203490945 | 0.2359 | 0.3125
6203492505 | 0.1180 | 0.1563
6203492510 | 0.2359 | 0.3125
6203492525 | 0.2359 | 0.3125
6203492550 | 0.2359 | 0.3125
6203492590 | 0.2359 | 0.3125
6203493500 | 0.4128 | 0.5468
6203495015 | 0.2359 | 0.3125
6203495020 | 0.2359 | 0.3125
6203495030 | 0.1180 | 0.1563
6203495045 | 0.1180 | 0.1563
6203495050 | 0.1180 | 0.1563
6203495060 | 0.1180 | 0.1563
6203499020 | 0.5308 | 0.7031
6203499030 | 0.3539 | 0.4688
6203499045 | 0.2359 | 0.3125
6204110000 | 0.0617 | 0.0817
6204120010 | 0.9865 | 1.3068
6204120020 | 0.9865 | 1.3068
6204120030 | 0.9865 | 1.3068
6204120040 | 0.9865 | 1.3068
6204132010 | 0.1233 | 0.1633
6204132020 | 0.1233 | 0.1633
6204192000 | 0.1233 | 0.1633
6204198010 | 0.5549 | 0.7351
6204198020 | 0.5549 | 0.7351
6204198030 | 0.5549 | 0.7351
6204198040 | 0.5549 | 0.7351
6204198060 | 0.3083 | 0.4084
6204198090 | 0.2466 | 0.3267
6204221000 | 1.2332 | 1.6336
6204223010 | 0.9865 | 1.3068
6204223030 | 0.9865 | 1.3068
6204223040 | 0.9865 | 1.3068
6204223050 | 0.9865 | 1.3068
6204223060 | 0.9865 | 1.3068
6204223065 | 0.9865 | 1.3068
6204223070 | 0.9865 | 1.3068
6204230030 | 0.3083 | 0.4084
6204230035 | 0.3083 | 0.4084
6204230040 | 0.3083 | 0.4084
6204230045 | 0.3083 | 0.4084
6204230050 | 0.3083 | 0.4084
6204230055 | 0.3083 | 0.4084
6204230060 | 0.3083 | 0.4084
6204292015 | 0.3083 | 0.4084
6204292020 | 0.3083 | 0.4084
6204292040 | 0.3083 | 0.4084
6204292050 | 0.3083 | 0.4084
6204294010 | 0.5549 | 0.7351
6204294022 | 0.5549 | 0.7351
6204294034 | 0.5549 | 0.7351
6204294047 | 0.2466 | 0.3267
6204294070 | 0.5549 | 0.7351
6204294082 | 0.5549 | 0.7351
6204294092 | 0.2466 | 0.3267
6204321000 | 0.6782 | 0.8984
6204322010 | 1.1715 | 1.5518
6204322020 | 1.1715 | 1.5518
6204322030 | 0.9865 | 1.3068
6204322040 | 0.9865 | 1.3068
6204398010 | 0.5549 | 0.7351
6204398030 | 0.3083 | 0.4084
6204412010 | 0.0603 | 0.0799
6204412020 | 0.0603 | 0.0799
6204421000 | 1.2058 | 1.5973
6204422000 | 0.6632 | 0.8785
6204423010 | 1.2058 | 1.5973
6204423020 | 1.2058 | 1.5973
6204423030 | 0.9043 | 1.1979
6204423040 | 0.9043 | 1.1979
6204423050 | 0.9043 | 1.1979
6204423060 | 0.9043 | 1.1979
6204431000 | 0.4823 | 0.6389
6204432000 | 0.0603 | 0.0799
6204442000 | 0.4316 | 0.5717
6204495010 | 0.5549 | 0.7351
6204495030 | 0.2466 | 0.3267
6204510010 | 0.0631 | 0.0836
6204510020 | 0.0631 | 0.0836
6204521000 | 1.2618 | 1.6715
6204522010 | 1.1988 | 1.5880
6204522020 | 1.1988 | 1.5880
6204522030 | 1.1988 | 1.5880
6204522040 | 1.1988 | 1.5880
6204522070 | 1.0095 | 1.3372
6204522080 | 1.0095 | 1.3372
6204531000 | 0.4416 | 0.5850
6204532010 | 0.0631 | 0.0836
6204532020 | 0.0631 | 0.0836
6204533010 | 0.2524 | 0.3343
6204533020 | 0.2524 | 0.3343
6204591000 | 0.4416 | 0.5850
6204594010 | 0.5678 | 0.7521
6204594030 | 0.2524 | 0.3343
6204594060 | 0.2524 | 0.3343
6204610510 | 0.0590 | 0.0782
6204610520 | 0.0590 | 0.0782
6204611510 | 0.0590 | 0.0782
6204611520 | 0.0590 | 0.0782
6204611530 | 0.0590 | 0.0782
6204611540 | 0.1180 | 0.1563
6204616010 | 0.0590 | 0.0782
6204616020 | 0.0590 | 0.0782
6204618010 | 0.0590 | 0.0782
6204618020 | 0.0590 | 0.0782
6204618030 | 0.0590 | 0.0782
6204618040 | 0.1180 | 0.1563
6204620300 | 0.8681 | 1.1499
6204620505 | 0.7077 | 0.9375
6204620510 | 0.9436 | 1.2499
6204620525 | 0.9436 | 1.2499
6204620550 | 0.9436 | 1.2499
6204621503 | 1.0616 | 1.4063
6204621506 | 1.1796 | 1.5626
6204621511 | 1.1796 | 1.5626
6204621521 | 0.9436 | 1.2499
6204621526 | 1.1796 | 1.5626
6204621531 | 1.1796 | 1.5626
6204621536 | 1.1796 | 1.5626
6204621541 | 1.1796 | 1.5626
6204621546 | 0.9436 | 1.2499
6204621551 | 0.9436 | 1.2499
6204621556 | 0.9335 | 1.2366
6204621561 | 0.9335 | 1.2366
6204621566 | 0.9335 | 1.2366
6204625000 | 0.8681 | 1.1499
6204626005 | 0.7077 | 0.9375
6204626010 | 0.9436 | 1.2499
6204626025 | 0.9436 | 1.2499
6204626050 | 0.9436 | 1.2499
6204627000 | 1.1796 | 1.5626
6204628003 | 1.0616 | 1.4063
6204628006 | 1.1796 | 1.5626
6204628011 | 1.1796 | 1.5626
6204628014 | 0.9436 | 1.2499
6204628018 | 0.9436 | 1.2499
6204628026 | 1.1796 | 1.5626
6204628031 | 1.1796 | 1.5626
6204628036 | 1.1796 | 1.5626
6204628041 | 1.1796 | 1.5626
6204628046 | 0.9436 | 1.2499
6204628051 | 0.9436 | 1.2499
6204628056 | 0.9335 | 1.2366
6204628061 | 0.9335 | 1.2366
6204628066 | 0.9335 | 1.2366
6204630100 | 0.2019 | 0.2674
6204630200 | 0.1180 | 0.1563
6204630305 | 0.1180 | 0.1563
6204630310 | 0.2359 | 0.3125
6204630325 | 0.2359 | 0.3125
6204630350 | 0.2359 | 0.3125
6204630810 | 0.0590 | 0.0782
6204630820 | 0.0590 | 0.0782
6204630910 | 0.0603 | 0.0799
6204630990 | 0.0603 | 0.0799
6204631110 | 0.2412 | 0.3195
6204631125 | 0.2412 | 0.3195
6204631130 | 0.2412 | 0.3195
6204631132 | 0.2309 | 0.3059
6204631135 | 0.2309 | 0.3059
6204631140 | 0.2309 | 0.3059
6204635000 | 0.2019 | 0.2674
6204635500 | 0.1180 | 0.1563
6204636005 | 0.1180 | 0.1563
6204636010 | 0.2359 | 0.3125
6204636025 | 0.2359 | 0.3125
6204636050 | 0.2359 | 0.3125
6204636500 | 0.4718 | 0.6250
6204637010 | 0.0590 | 0.0782
6204637020 | 0.0590 | 0.0782
6204637510 | 0.0603 | 0.0799
6204637590 | 0.0603 | 0.0799
6204639009 | 0.2412 | 0.3195
6204639011 | 0.2412 | 0.3195
6204639025 | 0.2412 | 0.3195
6204639030 | 0.2412 | 0.3195
6204639032 | 0.2309 | 0.3059
6204639035 | 0.2309 | 0.3059
6204639040 | 0.2309 | 0.3059
6204690105 | 0.1180 | 0.1563
6204690110 | 0.2359 | 0.3125
6204690125 | 0.2359 | 0.3125
6204690150 | 0.2359 | 0.3125
6204690210 | 0.0590 | 0.0782
6204690220 | 0.0590 | 0.0782
6204690230 | 0.0590 | 0.0782
6204690310 | 0.2359 | 0.3125
6204690320 | 0.2359 | 0.3125
6204690330 | 0.2359 | 0.3125
6204690340 | 0.2309 | 0.3059
6204690350 | 0.2309 | 0.3059
6204690360 | 0.2309 | 0.3059
6204690510 | 0.5308 | 0.7031
6204690530 | 0.2359 | 0.3125
6204690570 | 0.3539 | 0.4688
6204690610 | 0.5308 | 0.7031
6204690630 | 0.2359 | 0.3125
6204690644 | 0.2359 | 0.3125
6204690646 | 0.2359 | 0.3125
6204690650 | 0.3539 | 0.4688
6204691505 | 0.1180 | 0.1563
6204691510 | 0.2359 | 0.3125
6204691525 | 0.2359 | 0.3125
6204691550 | 0.2359 | 0.3125
6204692210 | 0.0590 | 0.0782
6204692220 | 0.0590 | 0.0782
6204692230 | 0.0590 | 0.0782
6204692810 | 0.2359 | 0.3125
6204692820 | 0.2359 | 0.3125
6204692830 | 0.2359 | 0.3125
6204692840 | 0.2309 | 0.3059
6204692850 | 0.2309 | 0.3059
6204692860 | 0.2309 | 0.3059
6204696510 | 0.5308 | 0.7031
6204696530 | 0.2359 | 0.3125
6204696570 | 0.3539 | 0.4688
6204698010 | 0.5308 | 0.7031
6204698030 | 0.2359 | 0.3125
6204698044 | 0.2359 | 0.3125
6204698046 | 0.2359 | 0.3125
6204698050 | 0.3539 | 0.4688
6205201000 | 1.1796 | 1.5626
6205202003 | 0.9436 | 1.2499
6205202016 | 0.9436 | 1.2499
6205202021 | 0.9436 | 1.2499
6205202026 | 0.9436 | 1.2499
6205202031 | 0.9436 | 1.2499
6205202036 | 1.0616 | 1.4063
6205202041 | 1.0616 | 1.4063
6205202044 | 1.0616 | 1.4063
6205202047 | 0.9436 | 1.2499
6205202051 | 0.9436 | 1.2499
6205202056 | 0.9436 | 1.2499
6205202061 | 0.9436 | 1.2499
6205202063 | 0.9436 | 1.2499
6205202067 | 0.9436 | 1.2499
6205202071 | 0.9436 | 1.2499
6205202076 | 0.9436 | 1.2499
6205301000 | 0.4128 | 0.5468
6205302010 | 0.2949 | 0.3906
6205302020 | 0.2949 | 0.3906
6205302030 | 0.2949 | 0.3906
6205302040 | 0.2949 | 0.3906
6205302050 | 0.2949 | 0.3906
6205302055 | 0.2949 | 0.3906
6205302060 | 0.2949 | 0.3906
6205302071 | 0.2949 | 0.3906
6205302073 | 0.2949 | 0.3906
6205302075 | 0.2949 | 0.3906
6205302080 | 0.2949 | 0.3906
6205900710 | 0.1180 | 0.1563
6205900720 | 0.1180 | 0.1563
6205901000 | 0.2359 | 0.3125
6205903010 | 0.5308 | 0.7031
6205903030 | 0.2359 | 0.3125
6205903050 | 0.1769 | 0.2343
6205904010 | 0.5308 | 0.7031
6205904030 | 0.2359 | 0.3125
6205904040 | 0.2359 | 0.3125
6206100010 | 0.5308 | 0.7031
6206100030 | 0.2359 | 0.3125
6206100040 | 0.1180 | 0.1563
6206100050 | 0.2359 | 0.3125
6206203010 | 0.0590 | 0.0782
6206203020 | 0.0590 | 0.0782
6206301000 | 1.1796 | 1.5626
6206302000 | 0.6488 | 0.8594
6206303003 | 0.9436 | 1.2499
6206303011 | 0.9436 | 1.2499
6206303021 | 0.9436 | 1.2499
6206303031 | 0.9436 | 1.2499
6206303043 | 0.9436 | 1.2499
6206303045 | 0.9436 | 1.2499
6206303051 | 0.9436 | 1.2499
6206303061 | 0.9436 | 1.2499
6206401000 | 0.4128 | 0.5468
6206403010 | 0.2949 | 0.3906
6206403020 | 0.2949 | 0.3906
6206403025 | 0.2949 | 0.3906
6206403033 | 0.2949 | 0.3906
6206403035 | 0.2949 | 0.3906
6206403040 | 0.2949 | 0.3906
6206403050 | 0.2949 | 0.3906
6206900010 | 0.5308 | 0.7031
6206900030 | 0.2359 | 0.3125
6206900040 | 0.1769 | 0.2343
6207110000 | 1.0281 | 1.3619
6207199010 | 0.3427 | 0.4540
6207199030 | 0.4569 | 0.6052
6207210010 | 1.0502 | 1.3912
6207210020 | 1.0502 | 1.3912
6207210030 | 1.0502 | 1.3912
6207210040 | 1.0502 | 1.3912
6207220000 | 0.3501 | 0.4638
6207291000 | 0.1167 | 0.1546
6207299030 | 0.1167 | 0.1546
6207911000 | 1.0852 | 1.4375
6207913010 | 1.0852 | 1.4375
6207913020 | 1.0852 | 1.4375
6207997520 | 0.2412 | 0.3195
6207998510 | 0.2412 | 0.3195
6207998520 | 0.2412 | 0.3195
6208110000 | 0.2412 | 0.3195
6208192000 | 1.0852 | 1.4375
6208195000 | 0.1206 | 0.1598
6208199000 | 0.2412 | 0.3195
6208210010 | 1.0026 | 1.3281
6208210020 | 1.0026 | 1.3281
6208210030 | 1.0026 | 1.3281
6208220000 | 0.1180 | 0.1563
6208299030 | 0.2359 | 0.3125
6208911010 | 1.0852 | 1.4375
6208911020 | 1.0852 | 1.4375
6208913010 | 1.0852 | 1.4375
6208913020 | 1.0852 | 1.4375
6208920010 | 0.1206 | 0.1598
6208920020 | 0.1206 | 0.1598
6208920030 | 0.1206 | 0.1598
6208920040 | 0.1206 | 0.1598
6208992010 | 0.0603 | 0.0799
6208992020 | 0.0603 | 0.0799
6208995010 | 0.2412 | 0.3195
6208995020 | 0.2412 | 0.3195
6208998010 | 0.2412 | 0.3195
6208998020 | 0.2412 | 0.3195
6209201000 | 1.0967 | 1.4528
6209202000 | 1.0390 | 1.3763
6209203000 | 0.9236 | 1.2235
6209205030 | 0.9236 | 1.2235
6209205035 | 0.9236 | 1.2235
6209205045 | 0.9236 | 1.2235
6209205050 | 0.9236 | 1.2235
6209301000 | 0.2917 | 0.3864
6209302000 | 0.2917 | 0.3864
6209303010 | 0.2334 | 0.3092
6209303020 | 0.2334 | 0.3092
6209303030 | 0.2334 | 0.3092
6209303040 | 0.2334 | 0.3092
6209900500 | 0.1154 | 0.1529
6209901000 | 0.2917 | 0.3864
6209902000 | 0.2917 | 0.3864
6209903010 | 0.2917 | 0.3864
6209903015 | 0.2917 | 0.3864
6209903020 | 0.2917 | 0.3864
6209903030 | 0.2917 | 0.3864
6209903040 | 0.2917 | 0.3864
6210109010 | 0.2170 | 0.2875
6210109040 | 0.2170 | 0.2875
6210203000 | 0.0362 | 0.0480
6210205010 | 0.0844 | 0.1118
6210205020 | 0.4316 | 0.5717
6210205029 | 0.4316 | 0.5717
6210207000 | 0.1809 | 0.2396
6210209039 | 0.1110 | 0.1470
6210209049 | 0.1110 | 0.1470
6210303000 | 0.0362 | 0.0480
6210305010 | 0.0844 | 0.1118
6210305020 | 0.0863 | 0.1143
6210305029 | 0.0863 | 0.1143
6210307000 | 0.0362 | 0.0480
6210309020 | 0.4220 | 0.5590
6210309039 | 0.1480 | 0.1960
6210309049 | 0.1480 | 0.1960
6210401500 | 0.0370 | 0.0490
6210402531 | 0.0863 | 0.1143
6210402539 | 0.0863 | 0.1143
6210402540 | 0.4316 | 0.5717
6210402550 | 0.4316 | 0.5717
6210402800 | 0.1110 | 0.1470
6210402933 | 0.1110 | 0.1470
6210402945 | 0.1110 | 0.1470
6210402960 | 0.1110 | 0.1470
6210403500 | 0.0370 | 0.0490
6210405531 | 0.0863 | 0.1143
6210405539 | 0.0863 | 0.1143
6210405540 | 0.4316 | 0.5717
6210405550 | 0.4316 | 0.5717
6210407500 | 0.1110 | 0.1470
6210408033 | 0.1110 | 0.1470
6210408045 | 0.1110 | 0.1470
6210408060 | 0.1110 | 0.1470
6210500300 | 0.0370 | 0.0490
6210500531 | 0.0863 | 0.1143
6210500539 | 0.0863 | 0.1143
6210500540 | 0.0863 | 0.1143
6210500555 | 0.0863 | 0.1143
6210501200 | 0.4316 | 0.5717
6210502260 | 0.1480 | 0.1960
6210502270 | 0.1480 | 0.1960
6210502290 | 0.1480 | 0.1960
6210503500 | 0.0370 | 0.0490
6210505531 | 0.0863 | 0.1143
6210505539 | 0.0863 | 0.1143
6210505540 | 0.0863 | 0.1143
6210505555 | 0.0863 | 0.1143
6210507500 | 0.4316 | 0.5717
6210508060 | 0.1480 | 0.1960
6210508070 | 0.1480 | 0.1960
6210508090 | 0.1480 | 0.1960
6211111010 | 0.1206 | 0.1598
6211111020 | 0.1206 | 0.1598
6211118010 | 1.0852 | 1.4375
6211118020 | 1.0852 | 1.4375
6211118040 | 0.2412 | 0.3195
6211121010 | 0.0603 | 0.0799
6211121020 | 0.0603 | 0.0799
6211128010 | 1.0852 | 1.4375
6211128020 | 1.0852 | 1.4375
6211128030 | 0.6029 | 0.7986
6211200410 | 0.7717 | 1.0222
6211200420 | 0.0965 | 0.1278
6211200430 | 0.7717 | 1.0222
6211200440 | 0.0965 | 0.1278
6211200810 | 0.3858 | 0.5111
6211200820 | 0.3858 | 0.5111
6211201510 | 0.7615 | 1.0087
6211201515 | 0.2343 | 0.3104
6211201520 | 0.6443 | 0.8535
6211201525 | 0.2929 | 0.3880
6211201530 | 0.7615 | 1.0087
6211201535 | 0.3515 | 0.4656
6211201540 | 0.7615 | 1.0087
6211201545 | 0.2929 | 0.3880
6211201550 | 0.7615 | 1.0087
6211201555 | 0.4100 | 0.5431
6211201560 | 0.7615 | 1.0087
6211201565 | 0.2343 | 0.3104
6211202400 | 0.1233 | 0.1633
6211202810 | 0.8016 | 1.0618
6211202820 | 0.2466 | 0.3267
6211202830 | 0.3083 | 0.4084
6211203400 | 0.1233 | 0.1633
6211203810 | 0.8016 | 1.0618
6211203820 | 0.2466 | 0.3267
6211203830 | 0.3083 | 0.4084
6211204400 | 0.1233 | 0.1633
6211204815 | 0.8016 | 1.0618
6211204835 | 0.2466 | 0.3267
6211204860 | 0.3083 | 0.4084
6211205400 | 0.1233 | 0.1633
6211205810 | 0.8016 | 1.0618
6211205820 | 0.2466 | 0.3267
6211205830 | 0.3083 | 0.4084
6211206400 | 0.1233 | 0.1633
6211206810 | 0.8016 | 1.0618
6211206820 | 0.2466 | 0.3267
6211206830 | 0.3083 | 0.4084
6211207400 | 0.1233 | 0.1633
6211207810 | 0.9249 | 1.2252
6211207820 | 0.2466 | 0.3267
6211207830 | 0.3083 | 0.4084
6211325003 | 0.6412 | 0.8494
6211325003 | 0.6412 | 0.8494
6211325007 | 0.8016 | 1.0618
6211325007 | 0.8016 | 1.0618
6211325010 | 0.9865 | 1.3068
6211325015 | 0.9865 | 1.3068
6211325025 | 0.9865 | 1.3068
6211325030 | 0.9249 | 1.2252
6211325040 | 0.9249 | 1.2252
6211325050 | 0.9249 | 1.2252
6211325060 | 0.9249 | 1.2252
6211325070 | 0.9249 | 1.2252
6211325075 | 0.9249 | 1.2252
6211325081 | 0.9249 | 1.2252
6211329003 | 0.6412 | 0.8494
6211329007 | 0.8016 | 1.0618
6211329010 | 0.9865 | 1.3068
6211329015 | 0.9865 | 1.3068
6211329025 | 0.9865 | 1.3068
6211329030 | 0.9249 | 1.2252
6211329040 | 0.9249 | 1.2252
6211329050 | 0.9249 | 1.2252
6211329060 | 0.9249 | 1.2252
6211329070 | 0.9249 | 1.2252
6211329075 | 0.9249 | 1.2252
6211329081 | 0.9249 | 1.2252
6211335003 | 0.0987 | 0.1307
6211335007 | 0.1233 | 0.1633
6211335010 | 0.3083 | 0.4084
6211335015 | 0.3083 | 0.4084
6211335017 | 0.3083 | 0.4084
6211335025 | 0.3700 | 0.4901
6211335030 | 0.3700 | 0.4901
6211335035 | 0.3700 | 0.4901
6211335040 | 0.3700 | 0.4901
6211335054 | 0.3700 | 0.4901
6211335058 | 0.3700 | 0.4901
6211335061 | 0.3700 | 0.4901
6211339003 | 0.0987 | 0.1307
6211339007 | 0.1233 | 0.1633
6211339010 | 0.3083 | 0.4084
6211339015 | 0.3083 | 0.4084
6211339017 | 0.3083 | 0.4084
6211339025 | 0.3700 | 0.4901
6211339030 | 0.3700 | 0.4901
6211339035 | 0.3700 | 0.4901
6211339042 | 0.3700 | 0.4901
6211339044 | 0.3700 | 0.4901
6211339054 | 0.3700 | 0.4901
6211339058 | 0.3700 | 0.4901
6211339061 | 0.3700 | 0.4901
6211390310 | 0.1233 | 0.1633
6211390320 | 0.1233 | 0.1633
6211390330 | 0.1233 | 0.1633
6211390340 | 0.1233 | 0.1633
6211390345 | 0.1233 | 0.1633
6211390351 | 0.1233 | 0.1633
6211391510 | 0.2466 | 0.3267
6211391520 | 0.2466 | 0.3267
6211391530 | 0.2466 | 0.3267
6211391540 | 0.2466 | 0.3267
6211391550 | 0.2466 | 0.3267
6211391560 | 0.2466 | 0.3267
6211391570 | 0.2466 | 0.3267
6211391590 | 0.2466 | 0.3267
6211393010 | 0.1233 | 0.1633
6211393020 | 0.1233 | 0.1633
6211393030 | 0.1233 | 0.1633
6211393040 | 0.1233 | 0.1633
6211393045 | 0.1233 | 0.1633
6211393051 | 0.1233 | 0.1633
6211398010 | 0.2466 | 0.3267
6211398020 | 0.2466 | 0.3267
6211398030 | 0.2466 | 0.3267
6211398040 | 0.2466 | 0.3267
6211398050 | 0.2466 | 0.3267
6211398060 | 0.2466 | 0.3267
6211398070 | 0.2466 | 0.3267
6211398090 | 0.2466 | 0.3267
6211420503 | 0.6412 | 0.8494
6211420507 | 0.8016 | 1.0618
6211420510 | 0.9865 | 1.3068
6211420520 | 0.9865 | 1.3068
6211420525 | 1.1099 | 1.4702
6211420530 | 0.8632 | 1.1434
6211420540 | 0.9865 | 1.3068
6211420554 | 1.1099 | 1.4702
6211420556 | 1.1099 | 1.4702
6211420560 | 0.9865 | 1.3068
6211420570 | 1.1099 | 1.4702
6211420575 | 1.1099 | 1.4702
6211420581 | 1.1099 | 1.4702
6211421003 | 0.6412 | 0.8494
6211421007 | 0.8016 | 1.0618
6211421010 | 0.9865 | 1.3068
6211421020 | 0.9865 | 1.3068
6211421025 | 1.1099 | 1.4702
6211421030 | 0.8632 | 1.1434
6211421040 | 0.9865 | 1.3068
6211421054 | 1.1099 | 1.4702
6211421056 | 1.1099 | 1.4702
6211421060 | 0.9865 | 1.3068
6211421070 | 1.1099 | 1.4702
6211421075 | 1.1099 | 1.4702
6211421082 | 1.1099 | 1.4702
6211421088 | 1.1099 | 1.4702
6211421092 | 1.1099 | 1.4702
6211430503 | 0.0987 | 0.1307
6211430507 | 0.1233 | 0.1633
6211430510 | 0.2466 | 0.3267
6211430520 | 0.2466 | 0.3267
6211430530 | 0.2466 | 0.3267
6211430540 | 0.2466 | 0.3267
6211430550 | 0.2466 | 0.3267
6211430560 | 0.2466 | 0.3267
6211430564 | 0.3083 | 0.4084
6211430566 | 0.2466 | 0.3267
6211430574 | 0.3083 | 0.4084
6211430576 | 0.3700 | 0.4901
6211430578 | 0.3700 | 0.4901
6211430591 | 0.2466 | 0.3267
6211431003 | 0.0987 | 0.1307
6211431007 | 0.1233 | 0.1633
6211431010 | 0.2466 | 0.3267
6211431020 | 0.2466 | 0.3267
6211431030 | 0.2466 | 0.3267
6211431040 | 0.2466 | 0.3267
6211431050 | 0.2466 | 0.3267
6211431059 | 0.2466 | 0.3267
6211431062 | 0.2466 | 0.3267
6211431064 | 0.3083 | 0.4084
6211431066 | 0.2466 | 0.3267
6211431074 | 0.3083 | 0.4084
6211431076 | 0.3700 | 0.4901
6211431078 | 0.3700 | 0.4901
6211431082 | 0.2466 | 0.3267
6211431088 | 0.2466 | 0.3267
6211431092 | 0.2466 | 0.3267
6211491520 | 0.0617 | 0.0817
6211491530 | 0.1233 | 0.1634
6211491540 | 0.0617 | 0.0817
6211491550 | 0.0617 | 0.0817
6211491555 | 0.0617 | 0.0817
6211491561 | 0.0617 | 0.0817
6211492510 | 0.2466 | 0.3267
6211492520 | 0.2466 | 0.3267
6211492530 | 0.2466 | 0.3267
6211492540 | 0.2466 | 0.3267
6211492550 | 0.2466 | 0.3267
6211492560 | 0.2466 | 0.3267
6211492570 | 0.2466 | 0.3267
6211492580 | 0.2466 | 0.3267
6211492590 | 0.2466 | 0.3267
6211496020 | 0.0617 | 0.0817
6211496030 | 0.1233 | 0.1634
6211496040 | 0.0617 | 0.0817
6211496050 | 0.0617 | 0.0817
6211496055 | 0.0617 | 0.0817
6211498010 | 0.2466 | 0.3267
6211498020 | 0.2466 | 0.3267
6211498030 | 0.2466 | 0.3267
6211498040 | 0.2466 | 0.3267
6211498050 | 0.2466 | 0.3267
6211498060 | 0.2466 | 0.3267
6211498070 | 0.2466 | 0.3267
6211498080 | 0.2466 | 0.3267
6211498090 | 0.2466 | 0.3267
6212105010 | 0.9138 | 1.2105
6212105020 | 0.2285 | 0.3027
6212105030 | 0.2285 | 0.3027
6212109010 | 0.9138 | 1.2105
6212109020 | 0.2285 | 0.3027
6212109040 | 0.2285 | 0.3027
6212200010 | 0.6854 | 0.9079
6212200020 | 0.2856 | 0.3783
6212200030 | 0.1142 | 0.1513
6212300010 | 0.6854 | 0.9079
6212300020 | 0.2856 | 0.3783
6212300030 | 0.1142 | 0.1513
6212900010 | 0.1828 | 0.2421
6212900020 | 0.1828 | 0.2421
6212900030 | 0.1828 | 0.2421
6212900050 | 0.0914 | 0.1211
6212900090 | 0.4112 | 0.5447
6213201000 | 1.1187 | 1.4819
6213202000 | 1.0069 | 1.3338
6213900700 | 0.4475 | 0.5928
6213901000 | 0.4475 | 0.5928
6213902000 | 0.3356 | 0.4446
6214300000 | 0.1142 | 0.1513
6214400000 | 0.1142 | 0.1513
6214900010 | 0.8567 | 1.1348
6214900090 | 0.2285 | 0.3027
6215100025 | 0.1142 | 0.1513
6215200000 | 0.1142 | 0.1513
6215900015 | 1.0281 | 1.3619
6216000800 | 0.0685 | 0.0907
6216001300 | 0.3427 | 0.4540
6216001720 | 0.6397 | 0.8474
6216001730 | 0.1599 | 0.2118
6216001900 | 0.3427 | 0.4540
6216002110 | 0.5780 | 0.7657
6216002120 | 0.2477 | 0.3281
6216002410 | 0.6605 | 0.8749
6216002425 | 0.1651 | 0.2187
6216002600 | 0.1651 | 0.2187
6216002910 | 0.6605 | 0.8749
6216002925 | 0.1651 | 0.2187
6216003100 | 0.1651 | 0.2187
6216003300 | 0.5898 | 0.7813
6216003500 | 0.5898 | 0.7813
6216003800 | 1.1796 | 1.5626
6216004100 | 1.1796 | 1.5626
6217109510 | 0.9646 | 1.2778
6217109520 | 0.1809 | 0.2396
6217109530 | 0.2412 | 0.3195
6217909003 | 0.9646 | 1.2778
6217909005 | 0.1809 | 0.2396
6217909010 | 0.2412 | 0.3195
6217909025 | 0.9646 | 1.2778
6217909030 | 0.1809 | 0.2396
6217909035 | 0.2412 | 0.3195
6217909050 | 0.9646 | 1.2778
6217909055 | 0.1809 | 0.2396
6217909060 | 0.2412 | 0.3195
6217909075 | 0.9646 | 1.2778
6217909080 | 0.1809 | 0.2396
6217909085 | 0.2412 | 0.3195
6301300010 | 0.8305 | 1.1001
6301300020 | 0.8305 | 1.1001
6301900030 | 0.2215 | 0.2934
6302100005 | 1.1073 | 1.4668
6302100008 | 1.1073 | 1.4668
6302100015 | 1.1073 | 1.4668
6302213010 | 1.1073 | 1.4668
6302213020 | 1.1073 | 1.4668
6302213030 | 1.1073 | 1.4668
6302213040 | 1.1073 | 1.4668
6302213050 | 1.1073 | 1.4668
6302215010 | 0.7751 | 1.0267
6302215020 | 0.7751 | 1.0267
6302215030 | 0.7751 | 1.0267
6302215040 | 0.7751 | 1.0267
6302215050 | 0.7751 | 1.0267
6302217010 | 1.1073 | 1.4668
6302217020 | 1.1073 | 1.4668
6302217030 | 1.1073 | 1.4668
6302217040 | 1.1073 | 1.4668
6302217050 | 1.1073 | 1.4668
6302219010 | 0.7751 | 1.0267
6302219020 | 0.7751 | 1.0267
6302219030 | 0.7751 | 1.0267
6302219040 | 0.7751 | 1.0267
6302219050 | 0.7751 | 1.0267
6302221010 | 0.5537 | 0.7335
6302221020 | 0.3876 | 0.5134
6302221030 | 0.5537 | 0.7335
6302221040 | 0.3876 | 0.5134
6302221050 | 0.3876 | 0.5134
6302221060 | 0.3876 | 0.5134
6302222010 | 0.3876 | 0.5134
6302222020 | 0.3876 | 0.5134
6302222030 | 0.3876 | 0.5134
6302290020 | 0.2215 | 0.2934
6302313010 | 1.1073 | 1.4668
6302313020 | 1.1073 | 1.4668
6302313030 | 1.1073 | 1.4668
6302313040 | 1.1073 | 1.4668
6302313050 | 1.1073 | 1.4668
6302315010 | 0.7751 | 1.0267
6302315020 | 0.7751 | 1.0267
6302315030 | 0.7751 | 1.0267
6302315040 | 0.7751 | 1.0267
6302315050 | 0.7751 | 1.0267
6302317010 | 1.1073 | 1.4668
6302317020 | 1.1073 | 1.4668
6302317030 | 1.1073 | 1.4668
6302317040 | 1.1073 | 1.4668
6302317050 | 1.1073 | 1.4668
6302319010 | 0.7751 | 1.0267
6302319020 | 0.7751 | 1.0267
6302319030 | 0.7751 | 1.0267
6302319040 | 0.7751 | 1.0267
6302319050 | 0.7751 | 1.0267
6302321010 | 0.5537 | 0.7335
6302321020 | 0.3876 | 0.5134
6302321030 | 0.5537 | 0.7335
6302321040 | 0.3876 | 0.5134
6302321050 | 0.3876 | 0.5134
6302321060 | 0.3876 | 0.5134
6302322010 | 0.5537 | 0.7335
6302322020 | 0.3876 | 0.5134
6302322030 | 0.5537 | 0.7335
6302322040 | 0.3876 | 0.5134
6302322050 | 0.3876 | 0.5134
6302322060 | 0.3876 | 0.5134
6302390030 | 0.2215 | 0.2934
6302402010 | 0.9412 | 1.2468
6302511000 | 0.5537 | 0.7335
6302512000 | 0.8305 | 1.1001
6302513000 | 0.5537 | 0.7335
6302514000 | 0.7751 | 1.0267
6302593020 | 0.5537 | 0.7335
6302600010 | 1.1073 | 1.4668
6302600020 | 0.9966 | 1.3202
6302600030 | 0.9966 | 1.3202
6302910005 | 0.9966 | 1.3202
6302910015 | 1.1073 | 1.4668
6302910025 | 0.9966 | 1.3202
6302910035 | 0.9966 | 1.3202
6302910045 | 0.9966 | 1.3202
6302910050 | 0.9966 | 1.3202
6302910060 | 0.9966 | 1.3202
6302931000 | 0.4429 | 0.5867
6302932000 | 0.4429 | 0.5867
6302992000 | 0.2215 | 0.2934
6303191100 | 0.8859 | 1.1735
6303910010 | 0.6090 | 0.8067
6303910020 | 0.6090 | 0.8067
6303921000 | 0.2768 | 0.3667
6303922010 | 0.2768 | 0.3667
6303922030 | 0.2768 | 0.3667
6303922050 | 0.2768 | 0.3667
6303990010 | 0.2768 | 0.3667
6304111000 | 0.9966 | 1.3202
6304113000 | 0.1107 | 0.1466
6304190500 | 0.9966 | 1.3202
6304191000 | 1.1073 | 1.4668
6304191500 | 0.3876 | 0.5134
6304192000 | 0.3876 | 0.5134
6304193060 | 0.2215 | 0.2934
6304200020 | 0.8859 | 1.1735
6304200070 | 0.2215 | 0.2934
6304910120 | 0.8859 | 1.1735
6304910170 | 0.2215 | 0.2934
6304920000 | 0.8859 | 1.1735
6304996040 | 0.2215 | 0.2934
6505001515 | 1.1189 | 1.4822
6505001525 | 0.5594 | 0.7410
6505001540 | 1.1189 | 1.4822
6505002030 | 0.9412 | 1.2468
6505002060 | 0.9412 | 1.2468
6505002545 | 0.5537 | 0.7335
6507000000 | 0.3986 | 0.5280
9404401000 | 0.9966 | 1.3202
9404409005 | 0.6644 | 0.8801
9404409036 | 0.0997 | 0.1321
9404901030 | 0.2104 | 0.2787
9404901060 | 0.2104 | 0.2787
9404901090 | 0.2104 | 0.2787
9404908100 | 0.9966 | 1.3202
9404909605 | 0.6644 | 0.8801
9404909636 | 0.0997 | 0.1321
9619002100 | 0.8681 | 1.1499
9619002500 | 0.1085 | 0.1437
9619003100 | 0.9535 | 1.2631
9619003300 | 1.1545 | 1.5293
9619004100 | 0.2384 | 0.3158
9619004300 | 0.2384 | 0.3158
9619006100 | 0.8528 | 1.1297
9619006400 | 0.2437 | 0.3228
9619006800 | 0.3655 | 0.4842
9619007100 | 1.1099 | 1.4702
9619007400 | 0.2466 | 0.3267
9619007800 | 0.2466 | 0.3267
9619007900 | 0.2466 | 0.3267

* * * * *

Melissa Bailey,
Associate Administrator, Agricultural Marketing Service.

[FR Doc. 2024-20783 Filed 9-13-24; 8:45 am]

BILLING CODE 3410-02-P